DEPARTMENT OF THE INTERIOR

[No. CIV 90-0957 LH/WWD]

Notice of Publication of Final Share Percentage Schedule: Ramah Navajo Chapter v. Bruce Babbitt

AGENCY: Bureau of Indian Affairs, Interior.

ACTION: Notice.

SUMMARY: This notice publishes the “Final Share Percentage Schedule” for the Class in Ramah Navajo Chapter, et al. v. Bruce Babbitt, et al., as required by paragraphs 11 and 12 of Appendix D of the Partial Settlement Agreement (PSA) previously approved by the Court in this case for the years 1989-1993.

FOR FURTHER INFORMATION CONTACT: Michael P. Gross, Class Counsel, 460 St. Michael's Drive, #300, Santa Fe, NM 87505-7602; (505) 983-6686; FAX (505) 986-1367; or C. Bryant Rogers, Co-Counsel, Roth, VanAmberg, Rogers, Ortiz, Fairbanks & Yepa LLP, 347 East Palace Avenue, Post Office Box 1447, Santa Fe, NM 87504-1447; (505) 988-8979; FAX (505) 983-7508.

SUPPLEMENTARY INFORMATION: This notice is published in exercise of authority delegated by the Secretary of the Interior to the Assistant Secretary—Indian Affairs in Part 290, Chapter 8, of the Departmental Manual.

The notice of “Final Share Percentage Schedule” in Ramah Navajo Chapter, and Oglala Sioux Tribe, for themselves and on behalf of a Class of persons similarly situated v. Bruce Babbitt, Secretary of the Interior; Kevin Gover, Assistant Secretary of the Interior; Robert J. Williams, Acting Inspector General, U.S. Department of the Interior; and the United States of America [No. CIV 90-0957 LH/WWD], before the United States District Court for the District of New Mexico, reads as follows:

Dated: November 17, 2000.
Kevin Gover,
Assistant Secretary—Indian Affairs.

Notice of Publication of Final Share Percentage Schedule

This Notice publishes the “Final Share Percentage Schedule” for the Class in Ramah Navajo Chapter, et al. v. Bruce Babbitt, et al., as required by paragraphs 11 and 12 of Appendix D of the Partial Settlement Agreement (PSA) previously approved by the Court in this case for the years 1989-1993.

The “Final Share Percentage Schedule” appended hereto as Exhibit A sets out each Class Member's percentage share of the partial settlement amount separately stated for each of the five settlement years for all class members reflected in the “Amended Final List of Class Members” prepared per paragraph 8(c) of Appendix D of the PSA and filed on October 2, 2000. The methodology and computations used by the Independent CPA in preparing this schedule were independently reviewed and verified by Kenton Keckler, P.C., CPAs & Consultants, 1850 Calle Medico, Suite K, Santa Fe, NM 87505, the Court Approved Class Monitor. The draft schedule was also made available to Class Counsel and Defendants' counsel for review prior to finalization per paragraphs 11 and 12 of Appendix D of the PSA. A Stipulation of Counsel was subsequently filed shortening all review and objection periods for Class Counsel and Defendants' Counsel as regards the Final Share Percentage Schedule under paragraphs 11 and 12 of Appendix D of the PSA to expedite the initial distribution to Class Members.

The appended “Final Share Percentage Schedule” contains the following information for each Class Member as required by paragraph 11 of Appendix D of the PSA stated separately for each of the five settlement years:

(a) Name of Class Member;

(b) Other-federal-agency-funding amount separately stated for each settlement year;

(c) The sum of all Class Member's other-federal-agency-funding separately stated for each settlement year; and

(d) Each Class Member's share percentage based on the formula set forth in paragraph 2 of Appendix D.

The dollar amount shown in Column C of the Appended Schedule does not show the amount of money Class Members will receive. That dollar amount merely shows the net other federal agencies funding amount calculated by the Independent CPA for each Class Member for each settlement year based on the audit data obtained for each Class Member. That data was then used to calculate the share percentages shown in Column D.

This notice and the appended Schedule have been mailed to each Class Member on or about the same date as this Federal Register publication. Each Class Member was also mailed a more detailed statement of the computation carried out in calculating their particular share percentage for each year. That more detailed statement includes for each settlement year a separate (1) statement of the total amount of funds shown in each Class Member's Schedule of Federal Financial Assistance; (2) the total of BIA funds removed from that schedule; (3) the total of IHS funds removed from that schedule; (4) the total of other federal agency construction funds removed from the schedule (such construction funds are not properly includable in indirect cost bases per OMB Circular A-87, hence did not contribute to the damages caused by the methodological defect for which damages were recovered in this case under the PSA); and (5) the total of other adjustments, e.g., to remove from the Schedule of Federal Financial Assistance any non-federal funds inadvertently listed there by a Class Member's auditors that were not “Other Federal Agency Funds.” Audited amounts were prorated for periods covering in excess of 12 months to a standard 12 month period.

Because those detailed computation sheets include information confidential to each Class Member, Class Members will only be permitted access to their own detailed computation sheet.

Under paragraphs 12 and 13 of Appendix D of the PSA, a Class Member may object to its own share percentages as stated on the appended final share percentage schedule only on one or more of the following grounds for one or more of the settlement years:

(a) The accuracy of the “other-federal-agency” funding number listed on the schedule;

(b) The Class member was incorrectly omitted from the Schedule; or

(c) A mathematical or typographical error in the calculation of that Class Member's share percentage as shown on the schedule.

Tribal entities which did not appear on the “Amended Final List of Class Members” filed on October 2, 2000 per paragraph 8(c) of Appendix D of the PSA are no longer Class Members for purposes of the PSA, will not appear on the appended schedule and have no further rights under the PSA. Other than combination of a few Class members, the “Amended Final List of Class Members” filed for record on October 2, 2000, consists of the same Class members as included on the “Final List of Class Members” filed on July 13, 2000, and served on the “short list” of Class members on that same date, per the “Notice of Final List of Class Members for Distribution of Partial Settlement and Final Insufficient Data List.” That “short list” had previously been mailed to 1,185 provisional Class members per “Class Distribution Notice #2” on May 25, 2000.

All Class Members' objections to their final share percentages must be filed with the Clerk of the Court and served upon Class Counsel and Defendants' Counsel within 30 days of the date of publication of this Federal Register publication notice.

Under paragraph 13 of Appendix D of the PSA:

Class Member's objections must include a sworn certificate of the basis for the objection, state what other-federal-agency dollar amount or what percentage the objector claims should be entered on the schedule if the objection were sustained, and must attach documentary verification of the basis for the objection. Objections which do not comply with this provision will be disregarded. Affidavits challenging the accuracy of Class Member's “other-federal-agency” funding number in the schedule without supporting documentary evidence will not be sufficient.

Paragraph 14 of Appendix D of the PSA sets out the procedure for resolving any Class Member's objections to its own final share percentages.

Once the deadlines for objections has passed without objections, or, if any objections are filed, once they are resolved, a final schedule setting out in dollars each Class Member's share of the net common fund amount will be prepared, submitted for final Court approval and published per paragraph 15 of Appendix D of the PSA. Checks to pay-out each Class Member's share will then be mailed per paragraph 16 of Appendix D of the PSA, after final Court approval.

Under paragraphs 17-19 of Appendix D of the PSA, there will be a later distribution of the balance of the Reserve Account after all expenses of distribution are paid. The Reserve Account includes all interest earning on the net common fund amount.

Any questions regarding this notice and individual share percentage calculations should be directed to the Independent CPA: REDW, LLC, Ramah Navajo Chapter—Settlement Administrator, Post Office Box 93659, Albuquerque, NM 87199-3659; 1(888) 726-9418; www.rncsettlement.com

Class members who have questions about the computation of their share percentages are encouraged to contact the Independent CPA for clarification before deciding whether to file an objection.

Under paragraphs 15 and 16 of Appendix D of the PSA, if any objections result in an increase in any class members share percentage for any year this will cause in a proportional decrease in all other class members' final share percentages for the year in which such change is approved by the Court. However, no changes in the underlying data used to calculate class members' share percentages will result from any objection by another class member. Under paragraphs 15 and 16 of Appendix D of the PSA, adjusted final share percentages which result from any prevailing objections will then be used for the distribution without further notice to the class subject to prior approval of the Court.

This Notice has been issued by Class Counsel pursuant to paragraph 12 of Appendix D of the PSA.

Ramah Navajo Chapter—Independent CPA's Final Share Percentage Schedule, 1989
[Prepared Per Paragraphs 11 & 12, Appendix D, Partial Settlement Agreement]
ID | Tribe name | Column C: Net other federal funds* (1989) | Tribe's share (%) of total of 1989 net other federal funds (Tribe's column C amount/total of all column C amounts for 1989)
1 | Absentee—Shawnee Tribe of Oklahoma |  | 0.000000
2 | Acoma Pueblo | 1,087,820 | 0.580071
11 | Akiachak Native Community |  | 0.000000
14 | Alabama-Coushatta Tribal Council | 1,092,912 | 0.582787
17 | Alamo Navajo School Board Inc | 861,560 | 0.459420
24 | All Indian Pueblo Council | 215,874 | 0.115113
33 | Angoon Village (IRA) | 13,153 | 0.007014
36 | Apache Tribe of Oklahoma | 211,762 | 0.112920
37 | Northern Arapaho Tribe | 1,354,516 | 0.722285
42 | Assiniboine and Sioux Tribes of Fort Peck | 2,331,136 | 1.243060
43 | Association of Village Council Presidents Inc | 2,259,941 | 1.205096
51 | Bad River Band of Lake Superior Chippewa Indians of Wisconsin | 1,121,117 | 0.597827
56 | Bay Mills Indian Community | 153,906 | 0.082069
58 | Bear River Band of Rohnerville Rancheria |  | 0.000000
66 | Orutsararmuit Native Council | 141,878 | 0.075655
67 | Big Lagoon Rancheria |  | 0.000000
68 | Big Pine Pauite Shoshone Band |  | 0.000000
74 | Bishop Pauite Tribe |  | 0.000000
76 | Black Mesa Community School | 27,142 | 0.014473
77 | Blackfeet Tribe | 3,830,765 | 2.042725
78 | Blue Lake Rancheria of California |  | 0.000000
79 | Board of Directors Trenton Indian Service Area | 99,504 | 0.053060
89 | Burns-Paiute General Council | 19,096 | 0.010183
93 | Caddo Tribe of Oklahoma | 115,418 | 0.061546
95 | Cahuilla Band of Indians |  | 0.000000
97 | Campo Band of Mission Indians |  | 0.000000
108 | Central Council Tlingit and Haida Tribes of Alaska | 2,164,420 | 1.154160
114 | Confederated Tribes of the Chehalis Reservation | 161,149 | 0.085931
115 | Chemehuevi Tribal Council |  | 0.000000
117 | Cher-Ae Heights Indian Community of the Trinidad Rancheria |  | 0.000000
118 | Eastern Band of Cherokee Indians/Cherokee Boy's Club, Inc | 2,169,409 | 1.156820
120 | Cherokee Nation of Oklahoma | 11,092,446 | 5.914959
122 | Cheyenne River Sioux Tribe | 2,343,427 | 1.249614
123 | Cheyenne-Arapaho Tribe | 1,011,071 | 0.539146
126 | Chickasaw Nation of Oklahoma | 1,826,798 | 0.974126
138 | Chippewa-Cree Tribe | 1,516,990 | 0.808923
141 | Chitimacha Tribe of Louisiana | 229,221 | 0.122230
144 | Choctaw Nation of Oklahoma | 3,907,538 | 2.083664
152 | Cibecue Community Edu. Board, Inc | 69,236 | 0.036920
156 | Citizen Band Potawatomi Tribe | 1,220,364 | 0.650749
161 | Coast Indian Community of the Rerighini Rancheria |  | 0.000000
164 | Coeur D'Alene Tribal Council | 562,221 | 0.299800
167 | Colorado River Tribal Council | 1,625,147 | 0.866597
171 | Comanche Tribe of Oklahoma | 782,237 | 0.417122
173 | Confederated Salish & Kootenai Tribal Council | 4,810,536 | 2.565180
174 | Confederated Tribes of Coos, Lower Umpqua, & Siuslaw Indians | 39,829 | 0.021239
176 | Confederated Tribes of the Colville Reservation | 1,937,708 | 1.033268
177 | Confederated Tribes of the Grand Ronde Tribal Council | 260,018 | 0.138653
178 | Confederated Tribes of the Warm Springs Reservation | 901,820 | 0.480888
179 | Confederated Tribes of Umatilla Indian Reservation | 1,173,672 | 0.625851
181 | Cook Inlet Tribal Council | 1,132,493 | 0.603893
185 | Coquille Indian Tribe |  | 0.000000
191 | Coushatta Tribe of Louisiana |  | 0.000000
193 | Cow Creek Band of Umpqua Indians | 3,711 | 0.001979
198 | Crow Creek Sioux | 395,629 | 0.210966
199 | Crow Creek Sioux Tribal High School | 26,839 | 0.014312
200 | Crow Tribe of Indians |  | 0.000000
208 | Delaware Tribe of Western Oklahoma | 281,872 | 0.150306
217 | Duck Valley Shoshone-Paiute Tribes | 415,961 | 0.221808
219 | Duckwater Shoshone Tribal Council | 250,969 | 0.133827
222 | Eastern Shawnee Tribe of Oklahoma |  | 0.000000
232 | Elk Valley Rancheria |  | 0.000000
234 | Ely Indian Colony of Western Shoshone |  | 0.000000
236 | Enemy Swim Day School | 15,535 | 0.008284
240 | Fairbanks Native Association | 317,735 | 0.169430
241 | Fallon Colony | 85,516 | 0.045601
243 | Flagstaff Dormitory |  | 0.000000
244 | Flandreau Santee Sioux | 35,885 | 0.019135
246 | Fond du Lac Ojibwe School | 2,363,707 | 1.260428
248 | Forest County Potawatomi Executive Council | 210,094 | 0.112031
250 | Fort Belknap Community Council | 2,809,730 | 1.498266
251 | Fort Bidwell Indian Community of Paiute Indians |  | 0.000000
256 | Fort McDowell Mohave-Apache Indian Comm | 358,549 | 0.191193
257 | Fort Mojave Indian Tribe | 288,528 | 0.153855
260 | Fort Yukon Village (IRA) | 300,609 | 0.160297
263 | Gambell Village |  | 0.000000
266 | Gila River Indian Community | 3,048,346 | 1.625506
268 | Confederated Tribes of the Goshute Reservation |  | 0.000000
269 | Grand Portage Band of the Ojibwe | 228,867 | 0.122042
270 | Grand Traverse Band of Ottawa & Chippewa Indians | 515,410 | 0.274838
274 | Greyhills Academy High School |  | 0.000000
280 | Hannahvile Indian School | 153,694 | 0.081956
284 | Havasupai Tribal Council | 355,152 | 0.189382
286 | Ho-Chunk Nation | 841,091 | 0.448505
288 | Hoh Tribe | 19,653 | 0.010480
291 | Hoopa Valley Tribe | 769,622 | 0.410395
295 | Hopi Tribal Council | 2,336,998 | 1.246186
299 | Houlton Band of Maliseet Indians | 16,862 | 0.008992
300 | Hualapai Tribal Council | 305,502 | 0.162907
320 | Iowa Tribe of Oklahoma | 35,026 | 0.018677
322 | Pueblo of Isleta |  | 0.000000
327 | Jamestown S'Klallam Tribal Council | 207,393 | 0.110591
330 | Jemez Pueblo |  | 0.000000
332 | Jicarilla Apache Tribe | 730,548 | 0.389559
334 | Passamaquoddy Tribe—Indian Township | 194,596 | 0.103767
336 | Kaibab-Paiute Tribal Council |  | 0.000000
338 | Organized Village of Kake | 15,334 | 0.008177
340 | Kalispel Tribe | 229,898 | 0.122591
345 | Karuk Tribe of California |  | 0.000000
349 | Kaw Nation of Oklahoma | 26,146 | 0.013942
350 | Kawerak Inc | 896,562 | 0.478085
353 | Ketchikan Indian Corporation (IRA) | 356,241 | 0.189963
354 | Keweenaw Bay Indian Community | 129,929 | 0.069284
356 | Kiana Village |  | 0.000000
358 | Kickapoo Traditional Tribe of Texas |  | 0.000000
359 | Kickapoo Tribe of Kansas | 200,684 | 0.107013
360 | Kickapoo Tribe of Oklahoma | 150,681 | 0.080349
365 | Kiowa Tribe of Oklahoma | 821,316 | 0.437960
369 | Klamath General Council | 222,327 | 0.118554
378 | Kootenai Tribal Council | 118,903 | 0.063404
380 | Kotzebue Village (IRA) |  | 0.000000
384 | Kuskokwim Native Association | 93,482 | 0.049849
385 | Kwethluk Village (IRA) |  | 0.000000
386 | Kwigillingok Village (IRA) |  | 0.000000
388 | La Jolla Band of Indians |  | 0.000000
391 | Lac Courte Oreilles Governing Board | 1,537,331 | 0.819770
392 | Lac du Flambeau Band of Lake Superior Chippewa Indians | 1,569,920 | 0.837147
393 | Lac Vieux Desert Band of Lake Superior Chippewa Indians |  | 0.000000
395 | Laguna Pueblo | 581,197 | 0.309919
397 | Larsen Bay Village |  | 0.000000
398 | Las Vegas Tribal Council | 451,203 | 0.240600
401 | Leech Lake Band of Ojibwe | 1,692,692 | 0.902615
408 | Little Singer Community School | 5,480 | 0.002922
411 | Little Wound School | 344,774 | 0.183848
413 | Loneman Day School | 50,159 | 0.026747
419 | Lower Brule Sioux | 738,578 | 0.393841
420 | Lower Elwha Community Council | 254,150 | 0.135523
423 | Lower Sioux Indian Community Council | 114,248 | 0.060922
426 | Lummi Nation | 871,645 | 0.464798
430 | Maineindian Education | 593,879 | 0.316681
431 | Makah Tribal Council | 575,024 | 0.306627
440 | Manzanita Band of Mission Indians | 3,587 | 0.001913
443 | Marty Indian School | 164,061 | 0.087484
445 | Mashantucket Pequot Tribe | 51,042 | 0.027218
450 | Menominee Indian Tribe of Wisconsin | 904,876 | 0.482518
452 | Mentasta Lake Village |  | 0.000000
453 | Mesa Grande Band of Mission Indians |  | 0.000000
455 | Mescalero Apache Tribe |  | 0.000000
456 | Metlakatla Indian Community Council | 258,924 | 0.138069
459 | Miami Tribe of Oklahoma |  | 0.000000
461 | Miccosukee Tribe of Florida Indians | 1,172,355 | 0.625149
463 | Mille Lacs Reservation Business Committee | 559,861 | 0.298541
464 | Minnesota Chippewa Tribal Executive Committee | 893,900 | 0.476665
466 | Mississippi Band of Choctaw Indians | 5,181,619 | 2.763057
467 | Moapa Business Council | 20,921 | 0.011156
471 | Concow Maidu Tribe of Mooretown Rancheria |  | 0.000000
473 | Muckleshoot Tribal Council | 934,020 | 0.498059
475 | Muscogee (Creek) Nation of Oklahoma | 1,899,125 | 1.012693
479 | Pueblo of Nambe |  | 0.000000
484 | Narragansett Indian Tribe | 43,385 | 0.023135
489 | Navajo Preparatory School | 141,978 | 0.075709
495 | Nett Lake Reservation (Bois Forte) Tribe | 602,704 | 0.321387
502 | Nez Perce Tribe | 1,813,152 | 0.966849
507 | Nisqually Indian Community Council | 533,123 | 0.284284
511 | Nome Eskimo Community | 78,872 | 0.042058
515 | Nooksack Indian Tribal Council | 193,882 | 0.103386
518 | Northern Cheyenne Tribal Schools |  | 0.000000
519 | Northern Cheyenne Tribe | 1,606,810 | 0.856819
521 | Northwest Indian Fisheries Commission | 147,705 | 0.078763
522 | Northwestern Band of Shoshoni Nation |  | 0.000000
528 | Oglala Sioux Tribe | 4,373,098 | 2.331920
530 | Ojibwa Indian School | 755,627 | 0.402932
534 | Omaha Tribe of Nebraska | 519,561 | 0.277052
536 | Oneida Tribal Council of Wisconsin | 1,416,568 | 0.755374
540 | Osage Tribe of Indians of Oklahoma | 940,949 | 0.501754
542 | Otoe-Missouria Tribe of Oklahoma | 490,701 | 0.261662
548 | Paiute Indian Tribe of Utah | 248,151 | 0.132325
551 | Paschal Sherman Indian School |  | 0.000000
552 | Pascua Yaqui Tribal Council | 428,166 | 0.228316
555 | Passamaquoddy Tribe—Pleasant Point | 886,225 | 0.472572
557 | Pauma Band of Mission Indians |  | 0.000000
558 | Pawnee Tribe of Oklahoma | 217,353 | 0.115902
561 | Penobscot Nation | 704,068 | 0.375439
562 | Peoria Tribe of Indians of Oklahoma |  | 0.000000
566 | Pueblo of Picuris |  | 0.000000
567 | Pierre Indian Learning Center | 140,530 | 0.074937
574 | Pinon Community School Board Inc |  | 0.000000
584 | Poarch Band of Creek Indians | 1,100,944 | 0.587070
587 | Point No Point Treaty Council | 56,426 | 0.030089
591 | Ponca Tribe of Oklahoma | 316,594 | 0.168821
592 | Porcupine Day School | 3,133 | 0.001671
593 | Port Gamble S'Klallam Tribe | 365,718 | 0.195016
599 | Prairie Band Potawatomi Tribe of Kansas | 83,083 | 0.044303
600 | Prairie Island Community Council | 28,080 | 0.014973
603 | Pueblo of Santa Clara | 379,815 | 0.202533
604 | Puyallup Tribal Council | 597,897 | 0.318824
606 | Pyramid Lake Paiute Tribal Council | 152,380 | 0.081255
609 | Quapaw Tribe of Oklahoma |  | 0.000000
611 | Quechan Indian Tribe | 771,980 | 0.411652
612 | Quileute Tribal Council | 704,450 | 0.375642
614 | Quinault Indian Nation | 650,880 | 0.347077
615 | Ramah Navajo School Board Inc | 638,132 | 0.340279
621 | Red Cliff Tribal Council | 759,230 | 0.404853
629 | Redding Rancheria |  | 0.000000
631 | Reno-Sparks Indian Colony |  | 0.000000
634 | Rincon Band of Luiseno Indians |  | 0.000000
638 | Rock Point Community School | 757,847 | 0.404116
641 | Rosebud Sioux Tribe | 3,169,895 | 1.690322
644 | Rough Rock Community School | 202,589 | 0.108029
651 | Sac and Fox Nation of Oklahoma | 469,289 | 0.250245
653 | Sac and Fox Tribal of the Mississippi in Iowa | 209,107 | 0.111505
655 | Saginaw Chippewa Tribal Council | 441,393 | 0.235369
660 | Salt River Pima-Maricopa Indian Tribe | 1,130,069 | 0.602600
662 | San Carlos Apache Tribal Council | 1,714,040 | 0.913998
663 | Pueblo de San Felipe |  | 0.000000
666 | San Juan Pueblo | 213,196 | 0.113685
667 | San Juan Southern Pauite Indians |  | 0.000000
672 | Sandia Pueblo |  | 0.000000
674 | Santa Ana Pueblo | 239,553 | 0.127740
677 | Santa Fe Indian School | 634,018 | 0.338085
682 | Santa Ysabel Band of Diegueno Indians |  | 0.000000
683 | Santee Sioux Tribe of Nebraska | 171,288 | 0.091338
685 | Sauk-Suiattle Tribal Council |  | 0.000000
686 | Sault Ste Marie Chippewa Tribal Council | 970,467 | 0.517494
693 | Selawik Village (IRA) |  | 0.000000
695 | Seminole Nation of Oklahoma | 657,291 | 0.350495
696 | Seminole Tribe of Florida | 2,837,871 | 1.513272
697 | Seneca Nation of Indians | 1,706,529 | 0.909993
698 | Senca-Cayuga Tribe of Oklahoma |  | 0.000000
700 | Shakopee Mdewakanton Sioux Community | 87,100 | 0.046445
706 | Sherwood Valley of the Promo Indians |  | 0.000000
710 | Shiprock Reservation Domitory | 20,742 | 0.011061
712 | Shoalwater Bay Tribal Council | 101,355 | 0.054047
716 | Joint Business Council Shoshone/Arapaho Tribes | 1,418,232 | 0.756261
718 | Shoshone-Bannock Tribe | 2,718,477 | 1.449606
720 | Sinte Gleska College | 1,228,918 | 0.655311
721 | Sisseton-Wahpeton Sioux Tribe | 798,392 | 0.425736
722 | Sitka Village (IRA) | 34,499 | 0.018396
724 | Skokomish Tribal Council | 472,062 | 0.251723
729 | Smith River Rancheria of California |  | 0.000000
732 | Sokaogon Chippewa Tribal Council |  | 0.000000
740 | Southern Ute Indian Tribe | 525,872 | 0.280417
741 | Spirit Lake Sioux Tribe | 765,816 | 0.408365
742 | Spokane Tribe | 673,819 | 0.359309
743 | Squaxin Island Tribal Council | 50,862 | 0.027122
744 | St. Francis Indian School | 174,639 | 0.093125
746 | St. Stephens Indian School |  | 0.000000
747 | St. Croix Council of Wisconsin | 381,011 | 0.203171
748 | St. Michaels | 334 | 0.000178
749 | St. Regis Mohawk Tribe | 1,071,020 | 0.571113
752 | Standing Rock Sioux Tribe | 2,621,602 | 1.397949
759 | Stillaguamish Board of Directors | 59,846 | 0.031912
760 | Stockbridge-Munsee Tribal Council | 806,634 | 0.430131
764 | Simmit Lake Paiute Council |  | 0.000000
765 | Suquamish Tribal Council | 109,687 | 0.058490
766 | Susanville Indian Rancheria |  | 0.000000
768 | Swinomish Indian Tribal Community | 426,910 | 0.227646
778 | Taos Pueblo | 605,575 | 0.322918
779 | Tate Topa Tribal School (Four Winds) | 634,409 | 0.338294
786 | Te-Monk Tribe of Western Shoshone | 821 | 0.000438
789 | The Hopi Credit Association |  | 0.000000
794 | Three Affiliated Tribes | 1,678,775 | 0.895194
796 | Tiospa Zina Tribal School | 202,795 | 0.108139
800 | Tohono O'Odham Nation | 3,793,868 | 2.023050
801 | Toiyabe Indian Health Project, Inc. |  | d0.000000
806 | Tonkawa Tribe of Oklahoma | 428,042 | 0.228250
809 | Torres Martinez Desert Cahuilla Indians |  | 0.000000
817 | Tulalip Tribes of Washington | 664,838 | 0.354520
818 | Tule River Indian Tribe |  | 0.000000
820 | Tunica-Biloxi Indian Tribe of Louisiana | 71,641 | 0.038202
824 | Turtle Mountain Bank of Chippewa | 2,992,398 | 1.595673
825 | Turtle Mountain Community College | 452,401 | 0.241239
830 | Twin Buttes Day School | 93,919 | 0.050082
844 | United Crow Band Inc | 13,790 | 0.007353
846 | United Sioux Tribes | 758,820 | 0.404635
847 | United Tribes Technical College | 806,323 | 0.429965
852 | Upper Sioux Community | 27,308 | 0.014562
853 | Upper Skagit Tribal Council | 384,133 | 0.204836
854 | Ute Indian Tribe | 1,760,347 | 0.938691
855 | Ute Mountain Ute Tribe | 924,794 | 0.493139
864 | Walker River Paiute Tribal Council | 124,771 | 0.066533
865 | Wampanoag Tribe of Gay Head | 29,711 | 0.015843
870 | Washone Tribe of Nevada and CA | 105,486 | 0.056250
875 | White Earth Band of Chippewa Indians | 1,480,742 | 0.789594
879 | White Shield School | 15,632 | 0.008336
881 | Wichita and Affiliated Tribes | 83,339 | 0.044440
884 | Winnebago Tribe of Nebraska | 761,905 | 0.406280
887 | Wounded Knee District School | 59,011 | 0.031467
889 | Wyandotte Tribe of Oklahoma |  | 0.000000
890 | Yakama Tribal Council | 4,481,885 | 2.389930
892 | Yakutat Tlingit Tribe |  | 0.000000
893 | Yankton Sioux Tribe | 233,490 | 0.124507
895 | Yavapai-Prescot Board of Directors | 79,460 | 0.042371
896 | Yerington Paiute Tribe | 288,263 | 0.153714
897 | Yomba Shoshone Tribe |  | 0.000000
898 | Yselta Del Sur Pueblo |  | 0.000000
901 | Zia Pueblo | 45,398 | 0.024208
902 | Zuni Pueblo | 2,724,805 | 1.452981
908 | Bay Mills Community College |  | 0.000000
917 | Cglala Lakota Community College | 1,883,095 | 1.004146
920 | Cheyenne River Community College | 218,389 | 0.116454
930 | Crazy Horse School | 211,458 | 0.112758
935 | Dibe Yazhi Habitlin Olta, Inc. (Borrego, Pass) | 97,231 | 0.051848
940 | Dull Knife Memorial College | 594,282 | 0.316896
946 | Fort Berthold Community College | 323,532 | 0.172521
962 | Kickapoo Nation College | 426,508 | 0.227432
968 | Leupp Boarding School |  | 0.000000
983 | Northwest Indian College |  | 0.000000
998 | Salish Kootenai College | 2,251,882 | 1.200798
1026 | Tuba City Boarding School | 310,229 | 0.165427
1033 | Wingate Board of Education |  | 0.000000
1037 | Oglala Sioux Tribe Department of Public Safety |  | 0.000000
1039 | Great Lakes Fish & Wildlife Commission |  | 0.000000
1040 | 1854 Authority |  | 0.000000
1042 | Ogala Sioux Parks & Recreation Authority |  | 0.000000
1043 | Navajo Area School Board Assoc., Inc. |  | 0.000000
1044 | Tohatchi Special Edu. & Training Center | 1,179,809 | 0.629124
1046 | Bristol Bay Native Association | 583,633 | 0.311218
1047 | Columbia River Inter-Tribal Fish Commission |  | 0.000000
1050 | Covelo Indian Community Council |  | 0.000000
1051 | Dakota Plains Institute of Learning |  | 0.000000
1052 | Eeda Consortium of Tribes |  | 0.000000
1053 | Great Lakes Inter-tribal Council |  | 0.000000
1055 | Inter-Tribal Council of Michigan, Inc | 908,652 | 0.484532
1058 | Local Indian Education Committee, Inc |  | 0.000000
1059 | Lummi Community College |  | 0.000000
1061 | Native American Fish & Wildlife Society |  | 0.000000
1064 | North Pacific Rim | 181,617 | 0.096846
1065 | Nothwest Intertribal Court System | 108,288 | 0.057744
1066 | Nothern Plains Inter-Tribal Court System |  | 0.000000
1070 | Sioux City Indian Education Committee |  | 0.000000
1071 | Skagit System Cooperative |  | 0.000000
1072 | Sky People Education Committee |  | 0.000000
1073 | Turning Point |  | 0.000000
| Total class members | 187,532,074 | 100.000000
*Total Federal Funds shown on Schedule of Federal Assistance less BIA, IHS, construction and other adjustments to delete non-federal funds.

Ramah Navajo Chapter—Independent CPA's Final Share Percentage Schedule, 1990
[Prepared Per Paragraphs 11 & 12, Appendix D, Partial Settlement Agreement]
ID | Tribe name | Column C: Net other federal funds* (1990) | Tribe's share (%) of total of 1990 net other federal funds (Tribe's column C amount/total of all column C amounts for 1990)
1 | Absentee-Shawnee Tribe of Oklahoma | 23,689 | 0.012338
2 | Acoma Pueblo | 967,665 | 0.503973
11 | Akiachak Native Community |  | 0.000000
14 | Alabama-Coushatta Tribal Council | 1,220,618 | 0.635714
17 | Alamo Navajo School Board Inc | 852,775 | 0.444136
24 | All Indian Pueblo Council | 466,429 | 0.242922
33 | Angoon Village (IRA) |  | 0.000000
36 | Apache Tribe of Oklahoma | 245,995 | 0.128117
37 | Northern Arapaho Tribe |  | 0.000000
42 | Assiniboine and Sioux Tribes of Fort Peck | 2,459,583 | 1.280983
43 | Association of Village Council Presidents Inc | 336,209 | 0.175102
51 | Bad River Band of Lake Superior Chippewa Indians of Wisconsin | 949,961 | 0.494752
56 | Bay Mills Indian Community | 276,525 | 0.144018
58 | Bear River Band of Rohnerville Rancheria |  | 0.000000
66 | Orutsararmuit Native Council | 186,311 | 0.097033
67 | Big Lagoon Rancheria |  | 0.000000
68 | Big Pine Pauite Shoshone Band |  | 0.000000
74 | Bishop Pauite Tribe |  | 0.000000
76 | Black Mesa Community School | 42,537 | 0.022154
77 | Blackfeet Tribe | 3,793,721 | 1.975820
78 | Blue Lake Rancheria of California | 79,658 | 0.041487
79 | Board of Directors Trenton Indian Service Area | 326,057 | 0.169815
89 | Burns-Paiute General Council | 25,134 | 0.013090
93 | Caddo Tribe of Oklahoma | 156,501 | 0.081508
95 | Cahuilla Band of Indians |  | 0.000000
97 | Campo Band of Mission Indians |  | 0.000000
108 | Central Council Tlingit and Haida Tribes of Alaska | 2,338,495 | 1.217919
114 | Confederated Tribes of the Chehalis Reservation | 175,560 | 0.091434
115 | Chemehuevi Tribal Council |  | 0.000000
117 | Cher-Ae Heights Indian Community of the Trinidad Rancheria |  | 0.000000
118 | Eastern Band of Cherokee Indians/Cherokee Boy's Club, Inc | 2,370,435 | 1.234554
120 | Cherokee Nation of Oklahoma | 11,175,288 | 5.820238
122 | Cheyenne River Sioux Tribe | 2,977,545 | 1.550745
123 | Cheyenne-Arapaho Tribe | 1,045,502 | 0.544511
126 | Chickasaw Nation of Oklahoma | 2,037,625 | 1.061222
138 | Chippewa-Cree Tribe | 1,615,993 | 0.841630
141 | Chitimacha Tribe of Louisiana | 210,021 | 0.109382
144 | Choctaw Nation of Oklahoma | 3,795,896 | 1.976953
152 | Cibecue Community Edu. Board, Inc | 70,180 | 0.036551
156 | Citizen Band Potawatomi Tribe | 1,058,254 | 0.551153
161 | Coast Indian Community of the Resighini Rancheria |  | 0.000000
164 | Coeur D'Alene Tribal Council | 573,663 | 0.298771
167 | Colorado River Tribal Council | 1,583,324 | 0.824616
171 | Comanche Tribe of Oklahoma | 854,532 | 0.445052
173 | Confederated Salish & Kootenai Tribal Council | 5,020,694 | 2.614844
174 | Confederated Tribes of Coos, Lower Umpqua, & Siuslaw Indians | 23,485 | 0.012231
176 | Confederated Tribes of the Colville Reservation | 2,277,554 | 1.186180
177 | Confederated Tribes of the Grand Ronde Tribal Council | 233,004 | 0.121352
178 | Confederated Tribes of the Warm Springs Reservation | 844,817 | 0.439992
179 | Confederated Tribes of Umatilla Indian Reservation | 1,270,529 | 0.661708
181 | Cook Inlet Tribal Council | 1,407,514 | 0.733052
185 | Coquille Indian Tribe |  | 0.000000
191 | Coushatta Tribe of Louisiana | 176,106 | 0.091718
193 | Cow Creek Band of Umpqua Indians | 400 | 0.000208
198 | Crow Creek Sioux | 352,897 | 0.183793
199 | Crow Creek Sioux Tribal High School | 24,976 | 0.013008
200 | Crow Tribe of Indians |  | 0.000000
208 | Delaware Tribe of Western Oklahoma | 104,901 | 0.054634
217 | Duck Valley Shoshone-Paiute Tribes | 444,843 | 0.231680
219 | Duckwater Shoshone Tribal Council | 192,943 | 0.100487
222 | Eastern Shawnee Tribe of Oklahoma | 132,289 | 0.068898
232 | Elk Valley Rancheria |  | 0.000000
234 | Ely Indian Colony of Western Shoshone |  | 0.000000
236 | Enemy Swim Day School | 15,481 | 0.008063
240 | Fairbanks Native Association | 609,239 | 0.317300
241 | Fallon Colony | 43,089 | 0.022441
243 | Flagstaff Dormitory | 16,661 | 0.008677
244 | Flandreau Santee Sioux | 111,438 | 0.058038
246 | Fond Du Lac Ojibwe School | 1,989,201 | 1.036002
248 | Forest County Potawatomi Executive Council | 243,479 | 0.126807
250 | Fort Belknap Community Council | 1,797,196 | 0.936003
251 | Fort Bidwell Indian Community of Paiute Indians |  | 0.000000
256 | Fort McDowell Mohave-Apache Indian | 381,233 | 0.198551
257 | Fort Mojave Indian Tribe | 305,697 | 0.159211
260 | Fort Yukon Village (IRA) | 115,152 | 0.059973
263 | Gambell Village |  | 0.000000
266 | Gila River Indian Community | 2,798,077 | 1.457275
268 | Confederated Tribes of the Goshute Reservation | 155,097 | 0.080777
269 | Grand Portage Band of the Ojibwe | 510,224 | 0.265731
270 | Grand Traverse Band of Ottawa & Chippewa Indians | 522,564 | 0.272158
274 | Greyhills Academy High School | 127,160 | 0.066227
280 | Hannahvile Indian School | 125,899 | 0.065570
284 | Havasupai Tribal Council | 435,336 | 0.226729
286 | Ho-Chunk Nation | 1,025,170 | 0.533922
288 | Hoh Tribe | 5,314 | 0.002768
291 | Hoopa Valley Tribe | 986,163 | 0.513607
295 | Hopi Tribal Council | 2,303,229 | 1.199552
299 | Houlton Band of Maliseet Indians | 56,716 | 0.029538
300 | Hualapai Tribal Council | 518,513 | 0.270048
320 | Iowa Tribe of Oklahoma | 171,802 | 0.089477
322 | Pueblo of Isleta |  | 0.000000
327 | Jamestown S'Klallam Tribal Council | 160,798 | 0.083746
330 | Jemez Pueblo |  | 0.000000
332 | Jicarilla Apache Tribe | 793,692 | 0.413365
334 | Passamaquoddy Tribe—Indian Township | 302,569 | 0.157582
336 | Kaibab-Paiute Tribal Council | 24,420 | 0.012718
338 | Organized Village of Kake | 71,570 | 0.037275
340 | Kalispel Tribe | 207,692 | 0.108169
345 | Karuk Tribe of California |  | 0.000000
349 | Kaw Nation of Oklahoma | 54,324 | 0.028293
350 | Kawerak Inc | 822,771 | 0.428510
353 | Ketchikan Indian Corporation (IRA) | 336,242 | 0.175119
354 | Keweenaw Bay Indian Community | 209,095 | 0.108899
356 | Kiana Village |  | 0.000000
358 | Kickapoo Traditional Tribe of Texas |  | 0.000000
359 | Kickapoo Tribe of Kansas | 263,264 | 0.137111
360 | Kickapoo Tribe of Oklahoma | 168,399 | 0.087704
365 | Kiowa Tribe of Oklahoma | 669,449 | 0.348658
369 | Klamath General Council | 371,080 | 0.193263
378 | Kootenai Tribal Council | 223,960 | 0.116641
380 | Kotzebue Village (IRA) |  | 0.000000
384 | Kuskokwim Native Association | 107,091 | 0.055774
385 | Kwethluk Village (IRA) |  | 0.000000
386 | Kwigillingok Village (IRA) |  | 0.000000
388 | La Jolla Band of Indians | 36,751 | 0.019140
391 | Lac Courte Oreilles Governing Board | 1,161,766 | 0.605063
392 | Lac Du Flambeau Band of Lake Superior Chippewa Indians | 1,556,659 | 0.810729
393 | Lac Vieux Desert Band of Lake Superior Chippewa Indians |  | 0.000000
395 | Laguna Pueblo | 711,798 | 0.370714
397 | Larsen Bay Village |  | 0.000000
398 | Las Vegas Tribal Council | 350,104 | 0.182339
401 | Leech Lake Band of Ojibwe | 1,861,513 | 0.969501
408 | Little Singer Community School | 38,295 | 0.019945
411 | Little Wound School | 454,546 | 0.236734
413 | Loneman Day School | 103,879 | 0.054102
419 | Lower Brule Sioux | 842,760 | 0.438921
420 | Lower Elwha Community Council | 240,759 | 0.125390
423 | Lower Sioux Indian Community Council | 161,177 | 0.083943
426 | Lummi Nation | 770,306 | 0.401186
430 | Maineindian Education | 555,114 | 0.289111
431 | Makah Tribal Council | 558,368 | 0.290805
440 | Manzanita Band of Mission Indians | 100,116 | 0.052142
443 | Marty Indian School | 126,095 | 0.065672
445 | Mashantucket Pequot Tribe |  | 0.000000
450 | Menominee Indian Tribe of Wisconsin | 1,055,372 | 0.549652
452 | Mentasta Lake Village |  | 0.000000
453 | Mesa Grande Band of Mission Indians |  | 0.000000
455 | Mescalero Apache Tribe |  | 0.000000
456 | Metlakatla Indian Community Council | 200,557 | 0.104453
459 | Miami Tribe of Oklahoma |  | 0.000000
461 | Miccosukee Tribe of Florida Indians | 1,141,382 | 0.594447
463 | Mille Lacs Reservation Business Committee | 704,386 | 0.366854
464 | Minnesota Chippewa Tribal Executive Committee | 1,054,802 | 0.549355
466 | Mississippi Band of Choctaw Indians | 5,214,001 | 2.715521
467 | Moapa Business Council | 25,217 | 0.013133
471 | Concow Maidu Tribe of Mooretown Rancheria |  | 0.000000
473 | Muckleshoot Tribal Council | 859,401 | 0.447587
475 | Muscogee (Creek) Nation of Oklahoma | 2,031,185 | 1.057868
479 | Pueblo of Nambe |  | 0.000000
484 | Narragansett Indian Tribe | 89,502 | 0.046614
489 | Navajo Preparatory School |  | 0.000000
495 | Nett Lake Reservation (Bois Forte) Tribe | 550,335 | 0.286622
502 | Nez Perce Tribe | 1,959,027 | 1.020287
507 | Nisqually Indian Community Council | 675,632 | 0.351878
511 | Nome Eskimo Community | 88,299 | 0.045987
515 | Nooksack Indian Tribe | 310,979 | 0.161962
518 | Northern Cheyenne Tribal Schools | 128,972 | 0.067170
519 | Northern Cheyenne Tribe | 1,614,101 | 0.840645
521 | Northwest Indian Fisheries Commission | 194,280 | 0.101184
522 | Northwestern Band of Shoshoni Nation |  | 0.000000
528 | Oglala Sioux Tribe | 4,600,838 | 2.396177
530 | Ojibwa Indian School | 736,979 | 0.383828
534 | Omaha Tribe of Nebraska | 585,911 | 0.305150
536 | Oneida Tribal Council of Wisconsin | 1,678,158 | 0.874007
540 | Osage Tribe of Indians of Oklahoma | 990,927 | 0.516088
542 | Otoe-Missouria Tribe of Oklahoma | 468,401 | 0.243949
548 | Paiute Indian Tribe of Utah | 81,556 | 0.042475
551 | Paschal Sherman Indian School |  | 0.000000
552 | Pascua Yaqui Tribal Council | 747,819 | 0.389474
555 | Passamaquoddy Tribe—Pleasant Point | 819,602 | 0.426860
557 | Pauma Band of Mission Indians |  | 0.000000
558 | Pawnee Tribe of Oklahoma | 217,456 | 0.113254
561 | Penobscot Nation | 527,933 | 0.274954
562 | Peoria Tribe of Indians of Oklahoma |  | 0.000000
566 | Pueblo of Picuris |  | 0.000000
567 | Pierre Indian Learning Center | 184,210 | 0.095939
574 | Pinon Community School Board Inc |  | 0.000000
584 | Poarch Band of Creek Indians | 858,864 | 0.447308
587 | Point No Point Treaty Council | 58,533 | 0.030485
591 | Ponca Tribe of Oklahoma | 370,178 | 0.192794
592 | Porcupine Day School | 27,695 | 0.014424
593 | Port Gamble S'Klallam Tribe | 231,733 | 0.120690
599 | Prairie Bank Potawatomi Tribe of Kansas | 89,176 | 0.046444
600 | Prairie Island Community Council | 33,083 | 0.017230
603 | Pueblo of Santa Clara | 475,352 | 0.247570
604 | Puyallup Tribal Council | 656,645 | 0.341989
606 | Pyramid Lake Paiute Tribal Council | 250,360 | 0.130391
609 | Quapaw Tribe of Oklahoma |  | 0.000000
611 | Quechan Indian Tribe | 886,388 | 0.461643
612 | Quileute Tribal Council | 737,133 | 0.383909
614 | Quinault Indian Nation | 776,783 | 0.404559
615 | Ramah Navajo School Board Inc | 581,035 | 0.302611
621 | Red Cliff Tribal Council | 1,222,341 | 0.636611
629 | Redding Rancheria |  | 0.000000
631 | Reno-Sparks Indian Colony | 15,669 | 0.008161
634 | Rincon Bank of Luiseno Indians | 46,819 | 0.024384
638 | Rock Point Community School | 579,093 | 0.301599
641 | Rosebud Sioux Tribe | 3,703,979 | 1.929081
644 | Rough Rock Community School | 379,224 | 0.197505
651 | Sac and Fox Nation of Oklahoma | 555,550 | 0.289338
653 | Sac and Fox Tribal of the Mississippi in Iowa | 190,867 | 0.099406
655 | Saginaw Chippewa Tribal Council | 201,065 | 0.104717
660 | Salt River Pima-Maricopa Indian Tribe | 1,568,399 | 0.816843
662 | San Carlos Apache Tribal Council | 1,872,177 | 0.975055
663 | Pueblo De San Felipe |  | 0.000000
666 | San Juan Pueblo |  | 0.000000
667 | San Juan Southern Pauite Indians |  | 0.000000
672 | Sandia Pueblo |  | 0.000000
674 | Santa Ana Pueblo | 273,372 | 0.142376
677 | Santa Fe Indian School | 602,332 | 0.313702
682 | Santa Ysabel Band of Diegueno Indians | 100,469 | 0.052326
683 | Santee Sioux Tribe of Nebraska | 254,839 | 0.132724
685 | Sauk-Suiattle Tribal Council | 84,369 | 0.043940
686 | Sault Ste Marie Chippewa Tribal Council | 1,296,132 | 0.675043
693 | Selawik Village (IRA) |  | 0.000000
695 | Seminole Nation of Oklahoma | 794,024 | 0.413538
696 | Seminole Tribe of Florida | 2,741,453 | 1.427785
697 | Seneca Nation of Indians | 1,804,296 | 0.939701
698 | Seneca-Cayuga Tribe of Oklahoma | 44,581 | 0.023218
700 | Shakopee Mdewakanton Sioux Community |  | 0.000000
706 | Sherwood Valley of the Promo Indians |  | 0.000000
710 | Shiprock Reservation Dormitory | 63,998 | 0.033331
712 | Shoalwater Bay Tribal Council | 89,754 | 0.046745
716 | Joint Business Council Shoshone/Arapaho Tribes |  | 0.000000
718 | Shoshone-Bannock Tribe | 2,065,702 | 1.075845
720 | Sinte Gleska College | 1,085,215 | 0.565194
721 | Sisseton-Wahpeton Sioux Tribe | 717,318 | 0.373589
722 | Sitka Village (IRA) | 89,076 | 0.046392
724 | Skokomish Tribal Council | 527,937 | 0.274957
729 | Smith River Rancheria of California |  | 0.000000
732 | Sokaogon Chippewa Tribal Council | 150,864 | 0.078572
740 | Southern Ute Indian Tribe | 420,411 | 0.218956
741 | Spirit Lake Sioux Tribe | 745,570 | 0.388303
742 | Spokane Tribe | 613,118 | 0.319320
743 | Squaxin Island Tribal Council | 74,682 | 0.038895
744 | St. Francis Indian School | 327,309 | 0.170467
746 | St. Stephens Indian School | 587,798 | 0.306133
747 | St. Croix Council of Wisconsin | 384,578 | 0.200293
748 | St. Micheals | 44,009 | 0.022920
749 | St. Regis Mohawk Tribe | 1,007,304 | 0.524617
752 | Standing Rock Sioux Tribe | 3,048,446 | 1.587671
759 | Stillaguamish Board of Directors | 45,859 | 0.023884
760 | Stockbridge-Munsee Tribal Council | 612,776 | 0.319142
764 | Summit Lake Paiute Council |  | 0.000000
765 | Suquamish Tribal Council | 103,001 | 0.053644
766 | Susanville Indian Rancheria |  | 0.000000
768 | Swinomish Indian Tribal Community | 336,524 | 0.175266
778 | Taos Pueblo | 713,472 | 0.371586
779 | Tate Topa Tribal School (Four Winds) | 276,207 | 0.143852
786 | Te-Moak Tribe of Western Shoshone |  | 0.000000
789 | The Hopi Credit Association |  | 0.000000
794 | Three Affiliated Tribes | 1,778,688 | 0.926364
796 | Tiospa Zina Tribal School | 87,387 | 0.045512
800 | Tohono O'Odham Nation | 2,996,665 | 1.560703
801 | Toiyabe Indian Health Project, Inc |  | 0.000000
806 | Tonkawa Tribe of Oklahoma | 133,339 | 0.069445
809 | Torres Martinez Desert Cahuilla Indians |  | 0.000000
817 | Tulalip Tribes of Washington | 705,432 | 0.367398
818 | Tule River Indian Tribe | 297,213 | 0.154792
820 | Tunica-Biloxi Indian Tribe of Louisiana | 76,562 | 0.039875
824 | Turtle Mountain Band of Chippewa | 2,983,233 | 1.553707
825 | Turtle Mountain Community College | 816,971 | 0.425489
830 | Twin Buttes Day School | 66,817 | 0.034799
844 | United Crow Band Inc | 55,152 | 0.028724
846 | United Sioux Tribes | 840,675 | 0.437835
847 | United Tribes Technical College | 1,001,398 | 0.521541
852 | Upper Sioux Community | 22,671 | 0.011807
853 | Upper Skagit Tribal Council | 284,784 | 0.148319
854 | Ute Indian Tribe | 1,739,636 | 0.906025
855 | Ute Mountain Ute Tribe | 832,278 | 0.433461
864 | Walker River Paiute Tribal Council | 83,418 | 0.043445
865 | Wampanoag Tribe of Gay Head (Aquinnah) | 64,066 | 0.033366
870 | Washoe Tribe of Nevada and CA | 91,560 | 0.047686
875 | White Earth Band of Chippewa Indians | 2,103,293 | 1.095423
879 | White Shield School | 163,523 | 0.085165
881 | Wichita and Affiliated Tribes | 164,504 | 0.085676
884 | Winnebago Tribe of Nebraska | 689,678 | 0.359193
887 | Wounded Knee District School | 30,180 | 0.015718
889 | Wyandotte Tribe of Oklahoma |  | 0.000000
890 | Yakama Tribal Council | 4,378,666 | 2.280467
892 | Yakutat Tlingit Tribe |  | 0.000000
893 | Yankton Sioux Tribe | 194,675 | 0.101389
895 | Yavapai-Prescott Board of Directors |  | 0.000000
896 | Yerington Paiute Tribe | 95,455 | 0.049714
897 | Yomba Shoshone Tribe | 12,605 | 0.006565
898 | Yselta Del Sur Pueblo |  | 0.000000
901 | Zia Pueblo | 87,312 | 0.045473
902 | Zuni Pueblo | 2,898,756 | 1.509710
908 | Bay Mills Community College | 764,284 | 0.398049
917 | Cglala Lakota Community College | 3,241,485 | 1.688208
920 | Cheyenne River Community College | 117,253 | 0.061067
930 | Crazy Horse School | 239,992 | 0.124991
935 | Dibe Yazhi Habitiin Olta, Inc. (Borrego, Pass) | 102,829 | 0.053555
940 | Dull Knife Memorial College | 481,144 | 0.250586
946 | Fort Berthold Community College | 584,629 | 0.304483
962 | Kickapoo Nation School | 208,928 | 0.108812
968 | Leupp Boarding School |  | 0.000000
983 | Northwest Indian College | 1,109,555 | 0.577871
998 | Salish Kootenai College | 1,827,724 | 0.951903
1026 | Tuba City Boarding School |  | 0.000000
1033 | Wingate Board of Education |  | 0.000000
1037 | Oglala Sioux Tribe Department of Public Safety |  | 0.000000
1039 | Great Lakes Fish & Wildlife Commission |  | 0.000000
1040 | 1854 Authority |  | 0.000000
1042 | Ogala Sioux Parks & Recreation Authority |  | 0.000000
1043 | Navajo Area School Board Assoc. Inc |  | 0.000000
1044 | Tohatchi Special Edu. & Training Center | 1,156,746 | 0.602449
1046 | Bristol Bay Native Association | 524,134 | 0.272976
1047 | Columbia River Inter-Tribal Fish Commission | 12,978 | 0.006759
1050 | Covelo Indian Community Council | 161,969 | 0.084356
1051 | Dakota Plains Institute of Learning |  | 0.000000
1052 | Eeda Consortium of Tribes |  | 0.000000
1053 | Great Lakes Inter-Tribal Council |  | 0.000000
1055 | Inter-Tribal Council of Michigan, Inc | 655,787 | 0.341543
1058 | Local Indian Education Committee, Inc |  | 0.000000
1059 | Lummi Community College |  | 0.000000
1061 | Native American Fish & Wildlife Society |  | 0.000000
1064 | North Pacific Rim | 234,308 | 0.122031
1065 | Northwest Intertribal Court System | 190,743 | 0.099341
1066 | Northern Plains Inter-Tribal Court System |  | 0.000000
1070 | Sioux City Indian Education Committee |  | 0.000000
1071 | Skagit System Cooperative |  | 0.000000
1072 | Sky People Education Committee |  | -0.000000
1073 | Turning point |  | 0.000000
| Total class member | 192,007,421 | 100.000000
* Total Federal Funds shown on Schedule of Federal Financial Assistance less BIA, IHS, construction and other adjustments to delete non-federal funds.

Ramah Navajo Chapter—Independent CPA's Final Share Percentage Schedule, 1991
[Prepared Per Paragraphs 11 & 12, Appendix D, Partial Settlement Agreement]
ID | Tribe name | Column C: Net other federal funds* (1991) | Tribe's share (%) of total of 1991 net other federal funds (Tribe's column C amount/total of all column C amounts for 1991)
1 | Absentee-Shawnee Tribe of Oklahoma | 65,263 | 0.030139
2 | Acoma Pueblo |  | 0.000000
11 | Akiachak Native Community | 95,965 | 0.044318
14 | Alabama-Coushatta Tribal Council | 1,075,659 | 0.496754
17 | Alamo Navajo School Board Inc | 712,889 | 0.329222
24 | All Indian Pueblo Council | 369,818 | 0.170787
33 | Angoon Village (IRA) |  | 0.000000
36 | Apache Tribe of Oklahoma | 272,354 | 0.125777
37 | Northern Arapaho Tribe |  | 0.000000
42 | Assiniboine and Sioux Tribes of Fort Peck | 3,122,199 | 1.441876
43 | Association of Village Council Presidents Inc | 3,104,444 | 1.433676
51 | Bad River Band of Lake Superior Chippewa Indians of Wisconsin | 1,116,295 | 0.515521
56 | Bay Mills Indian Community | 52,049 | 0.024037
58 | Bear River Band of Rohnerville Rancheria | 147,210 | 0.067984
66 | Orutsararmuit Native Council | 212,875 | 0.098309
67 | Big Lagoon Rancheria |  | 0.000000
68 | Big Pine Pauite Shoshone Band |  | 0.000000
74 | Bishop Pauite Tribe |  | 0.000000
76 | Black Mesa Community School |  | 0.000000
77 | Blackfeet Tribe | 4,396,046 | 2.030156
78 | Blue Lake Rancheria of California | 96,519 | 0.044574
79 | Board of Directors Trenton Indian Service Area | 220,170 | 0.101678
89 | Burns-Paiute General Council | 53,942 | 0.024911
93 | Caddo Tribe of Oklahoma | 263,078 | 0.121493
95 | Cahuilla Band of Indians |  | 0.000000
97 | Campo Band of Mission Indians |  | 0.000000
108 | Central Council Tlingit and Haida Tribes of Alaska | 2,532,146 | 1.169381
114 | Confederated Tribes of the Chehalis Reservation | 180,405 | 0.083314
115 | Chemehuevi Tribal Council |  | 0.000000
117 | Cher-Ae Heights Indian Community of the Trinidad Rancheria | 5,171 | 0.002388
118 | Eastern Band of Cherokee Indians/Cherokee Boy's Club, Inc | 2,352,981 | 1.086640
120 | Cherokee Nation of Oklahoma | 13,317,191 | 6.150067
122 | Cheyenne River Sioux Tribe | 2,754,189 | 1.271923
123 | Cheyenne-Arapaho Tribe | 1,045,252 | 0.482712
126 | Chickasaw Nation of Oklahoma | 2,408,429 | 1.112246
138 | Chippewa-Cree Tribe | 1,240,462 | 0.572863
141 | Chitimacha Tribe of Louisiana | 60,022 | 0.027719
144 | Choctaw Nation of Oklahoma | 4,124,282 | 1.904652
152 | Cibecue Community Edu. Board, Inc |  | 0.000000
156 | Citizen Band Potawatomi Tribe | 1,049,803 | 0.484814
161 | Coast Indian Community of the Resighini Rancheria | 40,834 | 0.018858
164 | Coeur D'Alene Tribal Council | 844,895 | 0.390184
167 | Colorado River Tribal Council | 2,345,221 | 1.083056
171 | Comanche Tribe of Oklahoma | 967,769 | 0.446929
173 | Confederated Salish & Kootenai Tribal Council | 5,823,780 | 2.689504
174 | Confederated Tribes of Coos, Lower Umpqua, & Siuslaw Indians | 76,383 | 0.035275
176 | Confederated Tribes of the Colville Reservation | 3,396,425 | 1.568517
177 | Confederated Tribes of the Grand Ronde Tribal Council | 313,459 | 0.144760
178 | Confederated Tribes of the Warm Springs Reservation | 1,426,346 | 0.658707
179 | Confederated Tribes of Umatilla Indian Reservation | 1,694,497 | 0.782543
181 | Cook Inlet Tribal Council | 1,885,843 | 0.870909
185 | Coquille Indian Tribe | 65,751 | 0.030365
191 | Coushatta Tribe of Louisiana | 287,362 | 0.132708
193 | Cow Creek Band of Umpqua Indians |  | 0.000000
198 | Crow Creek Sioux | 835,171 | 0.385694
199 | Crow Creek Sioux Tribal High School |  | 0.000000
200 | Crow Tribe of Indians |  | 0.000000
208 | Delaware Tribe of Western Oklahoma | 99,010 | 0.045724
217 | Duck Valley Shoshone-Paiute Tribes | 360,262 | 0.166374
219 | Duckwater Shoshone Tribal Council | 273,295 | 0.126211
222 | Eastern Shawnee Tribe of Oklahoma | 73,582 | 0.033981
232 | Elk Valley Rancheria |  | 0.000000
234 | Ely Indian Colony of Western Shoshone | 171,860 | 0.079367
236 | Enemy Swim Day School |  | 0.000000
240 | Fairbanks Native Association | 898,892 | 0.415121
241 | Fallon Colony | 1,121 | 0.000518
243 | Flagstaff Dormitory |  | 0.000000
244 | Flandreau Santee Sioux | 123,564 | 0.057064
246 | Fond Du Lac Ojibwe School | 1,556,543 | 0.718834
248 | Forest County Potawatomi Executive Council | 89,837 | 0.041488
250 | Fort Belknap Community Council | 2,243,707 | 1.036176
251 | Fort Bidwell Indian Community of Paiute Indians |  | 0.000000
256 | Fort McDowell Mohave-Apache Indian | 143,216 | 0.066139
257 | Fort Mojave Indian Tribe | 380,770 | 0.175845
260 | Fort Yukon Village (IRA) |  | 0.000000
263 | Gambell Village | 23,309 | 0.010764
266 | Gila River Indian Community | 3,124,942 | 1.443142
268 | Confederated Tribes of the Goshute Reservation | 159,042 | 0.073448
269 | Grand Portage Band of the Ojibwe | 417,003 | 0.192578
270 | Grand Traverse Band of Ottawa & Chippewa Indians | 650,427 | 0.300376
274 | Greyhills Academy High School |  | 0.000000
280 | Hannahvile Indian School | 77,418 | 0.035753
284 | Havasupai Tribal Council | 1,180,267 | 0.545064
286 | Ho-Chunk Nation | 648,317 | 0.299402
288 | Hoh Tribe | 15,734 | 0.007266
291 | Hoopa Valley Tribe | 1,040,593 | 0.480561
295 | Hopi Tribal Council | 2,522,224 | 1.164799
299 | Houlton Band of Maliseet Indians | 41,303 | 0.019074
300 | Hualapai Tribal Council | 895,038 | 0.413341
320 | Iowa Tribe of Oklahoma | 202,221 | 0.093389
322 | Pueblo of Isleta | 567,918 | 0.262273
327 | Jamestown S'Klallam Tribal Council | 101,588 | 0.046915
330 | Jemez Pueblo | 474,549 | 0.219153
332 | Jicarilla Apache Tribe | 910,833 | 0.420636
334 | Passamaquoddy Tribe—Indian Township | 181,858 | 0.083985
336 | Kaibab-Paiute Tribal Council | 27,896 | 0.012883
338 | Organized Village of Kake | 58,134 | 0.026847
340 | Kalispel Tribe | 129,348 | 0.059735
345 | Karuk Tribe of California | 188,002 | 0.086822
349 | Kaw Nation of Oklahoma | 97,474 | 0.045015
350 | Kawerak Inc | 925,826 | 0.427560
353 | Ketchikan Indian Corporation (IRA) | 275,982 | 0.127452
354 | Keweenaw Bay Indian Community | 250,498 | 0.115684
356 | Kiana Village |  | 0.000000
358 | Kickapoo Traditional Tribe of Texas | 121,953 | 0.056320
359 | Kickapoo Tribe of Kansas | 290,758 | 0.134276
360 | Kickapoo Tribe of Oklahoma | 281,741 | 0.130112
365 | Kiowa Tribe of Oklahoma | 768,712 | 0.355002
369 | Klamath General Council | 817,652 | 0.377603
378 | Kootenai Tribal Council | 524,326 | 0.242141
380 | Kotzebue Village (IRA) |  | 0.000000
384 | Kuskokwim Native Association | 108,874 | 0.050280
385 | Kwethluk Village (IRA) |  | 0.000000
386 | Kwigillingok Village (IRA) |  | 0.000000
388 | La Jolla Band of Indians | 37,996 | 0.017547
391 | Lac Courte Oreilles Governing Board | 1,461,253 | 0.674827
392 | Lac du Flambeau Band of Lake Superior Chippewa Indians | 1,649,877 | 0.761936
393 | Lac Vieux Desert Band of Lake Superior Chippewa Indians | 20,636 | 0.009530
395 | Laguna Pueblo | 775,777 | 0.358265
397 | Larsen Bay Village |  | 0.000000
398 | Las Vegas Tribal Council | 321,209 | 0.148339
401 | Leech Lake Band of Ojibwe | 2,000,521 | 0.923869
408 | Little Singer Community School |  | 0.000000
411 | Little Wound School |  | 0.000000
413 | Loneman Day School |  | 0.000000
419 | Lower Brule Sioux | 703,919 | 0.325080
420 | Lower Elwha Community Council | 313,350 | 0.144709
423 | Lower Sioux Indian Community Council | 97,716 | 0.045127
426 | Lummi Nation | 1,511,491 | 0.698028
430 | Maineindian Education | 394,488 | 0.182180
431 | Makah Tribal Council | 1,096,632 | 0.506440
440 | Manzanita Band of Mission Indians | 13,703 | 0.006328
443 | Marty Indian School |  | 0.000000
445 | Mashantucket Pequot Tribe | 113,883 | 0.052593
450 | Menominee Indian Tribe of Wisconsin | 1,402,321 | 0.647612
452 | Mentasta Lake Village |  | 0.000000
453 | Mesa Grande Band of Mission Indians |  | 0.000000
455 | Mescalero Apache Tribe |  | 0.000000
456 | Metlakatla Indian Community Council | 392,017 | 0.181039
459 | Miami Tribe of Oklahoma | 140,253 | 0.064771
461 | Miccosukee Tribe of Florida Indians | 1,254,454 | 0.579325
463 | Mille Lacs Reservation Business Committee | 919,449 | 0.424615
464 | Minnesota Chippewa Tribal Executive Committee | 825,135 | 0.381059
466 | Mississippi Band of Choctaw Indians | 5,951,290 | 2.748390
467 | Moapa Business Council | 16,357 | 0.007554
471 | Concow Maidu Tribe of Mooretown Rancheria |  | 0.000000
473 | Muckleshoot Tribal Council | 606,433 | 0.280059
475 | Muscogee (Creek) Nation of Oklahoma | 2,148,988 | 0.992433
479 | Pueblo of Nambe |  | 0.000000
484 | Narragansett Indian Tribe | 137,460 | 0.063481
489 | Navajo Preparatory School |  | 0.000000
495 | Nett Lake Reservation (Bois Forte) Tribe | 559,667 | 0.258462
502 | Nez Perce Tribe | 2,873,705 | 1.327118
507 | Nisqually Indian Community Council | 784,526 | 0.362305
511 | Nome Eskimo Community | 1,172 | 0.000541
515 | Nooksack Indian Tribe | 347,333 | 0.160403
518 | Northern Cheyenne Tribal Schools | 100,120 | 0.046237
519 | Northern Cheyenne Tribe | 1,843,911 | 0.851544
521 | Northwest Indian Fisheries Commission | 267,661 | 0.123610
522 | Northwestern Band of Shoshoni Nation |  | 0.000000
528 | Oglala Sioux Tribe | 6,195,064 | 2.860968
530 | Ojibwa Indian School |  | 0.000000
534 | Omaha Tribe of Nebraska | 880,936 | 0.406829
536 | Oneida Tribal Council of Wisconsin | 2,991,026 | 1.381298
540 | Osage Tribe of Indians of Oklahoma | 1,324,709 | 0.611769
542 | Otoe-Missouria Tribe of Oklahoma | 721,908 | 0.333387
548 | Paiute Indian Tribe of Utah | 80,627 | 0.037235
551 | Paschal Sherman Indian School |  | 0.000000
552 | Pascua Yaqui Tribal Council | 931,828 | 0.430331
555 | Passamaquoddy Tribe—Pleasant Point | 364,658 | 0.168404
557 | Pauma Band of Mission Indians |  | 0.000000
558 | Pawnee Tribe of Oklahoma | 228,321 | 0.105442
561 | Penobscot Nation | 1,177,539 | 0.543804
562 | Peoria Tribe of Indians of Oklahoma | 218,068 | 0.100707
566 | Pueblo of Picuris | 23,630 | 0.010913
567 | Pierre Indian Learning Center |  | 0.000000
574 | Pinon Community School Board Inc |  | 0.000000
584 | Poarch Band of Creek Indians | 745,367 | 0.344221
587 | Point No Point Treaty Council | 71,419 | 0.032982
591 | Ponca Tribe of Oklahoma | 362,858 | 0.167573
592 | Porcupine Day School |  | 0.000000
593 | Port Gamble S'Klallam Tribe | 328,275 | 0.151602
599 | Prairie Band Potawatomi Tribe of Kansas | 229,227 | 0.105860
600 | Prairie Island Community Council | 62,484 | 0.028856
603 | Pueblo of Santa Clara | 330,693 | 0.152719
604 | Puyallup Tribal Council | 625,836 | 0.289020
606 | Pyramid Lake Paiute Tribal Council | 358,299 | 0.165468
609 | Quapaw Tribe of Oklahoma |  | 0.000000
611 | Quechan Indian Tribe | 894,919 | 0.413286
612 | Quileute Tribal Council | 809,640 | 0.373903
614 | Quinault Indian Nation | 1,086,182 | 0.501614
615 | Ramah Navajo School Board Inc | 636,068 | 0.293745
621 | Red Cliff Tribal Council | 1,080,945 | 0.499196
629 | Redding Rancheria | 13,322 | 0.006152
631 | Reno-Sparks Indian Colony | 62,672 | 0.028943
634 | Rincon Band of Luiseno Indians | 184,683 | 0.085289
638 | Rock Point Community School | 995,881 | 0.459912
641 | Rosebud Sioux Tribe | 4,071,329 | 1.880197
644 | Rough Rock Community School |  | 0.000000
651 | Sac and Fox Nation of Oklahoma | 465,308 | 0.214886
653 | Sac and Fox Tribal of the Mississippi in Iowa | 122,560 | 0.056600
655 | Saginaw Chippewa Tribal Council | 276,785 | 0.127823
660 | Salt River Pima-Maricopa Indian Tribe | 1,524,304 | 0.703945
662 | San Carlos Apache Tribal Council | 659,890 | 0.304747
663 | Pueblo de San Felipe |  | 0.000000
666 | San Juan Pueblo |  | 0.000000
667 | San Juan Southern Pauite Indians |  | 0.000000
672 | Sandia Pueblo |  | 0.000000
674 | Santa Ana Pueblo | 262,794 | 0.121362
677 | Santa Fe Indian School |  | 0.000000
682 | Santa Ysabel Band of Diegueno Indians |  | 0.000000
683 | Santee Sioux Tribe of Nebraska | 249,542 | 0.115242
685 | Sauk-Suiattle Tribal Council | 105,274 | 0.048617
686 | Sault Ste Marie Chippewa Tribal Council | 1,928,961 | 0.890821
693 | Selawik Village (IRA) |  | 0.000000
695 | Seminole Nation of Oklahoma | 792,069 | 0.365789
696 | Seminole Tribe of Florida | 2,080,282 | 0.960704
697 | Seneca Nation of Indians | 2,071,137 | 0.956480
698 | Seneca-Cayuga Tribe of Oklahoma | 91,538 | 0.042274
700 | Shakopee Mdewakanton Sioux Community |  | 0.000000
706 | Sherwood Valley Band of Pomo Indians | 191,015 | 0.088213
710 | Shiprock Reservation Dormitory |  | 0.000000
712 | Shoalwater Bay Tribal Council | 263,684 | 0.121773
716 | Joint Business Council Shoshone/Arapaho Tribes |  | 0.000000
718 | Shoshone-Bannock Tribe | 2,546,076 | 1.175814
720 | Sinte Gleska College | 1,169,462 | 0.540074
721 | Sisseton-Wahpeton Sioux Tribe | 978,633 | 0.451947
722 | Sitka Village (IRA) | 239,058 | 0.110400
724 | Skokomish Tribal Council | 996,911 | 0.460388
729 | Smith River Rancheria of California | 151,282 | 0.069864
732 | Sokaogon Chippewa Tribal Council | 159,388 | 0.073608
740 | Southern Ute Indian Tribe | 528,532 | 0.244084
741 | Spirit Lake Sioux Tribe | 1,000,884 | 0.462222
742 | Spokane Tribe | 956,993 | 0.441953
743 | Squaxin Island Tribal Council | 103,711 | 0.047895
744 | St. Francis Indian School |  | 0.000000
746 | St. Stephens Indian School | 404,649 | 0.186873
747 | St. Croix Council of Wisconsin | 317,576 | 0.146661
748 | St. Micheals | 735,782 | 0.339795
749 | St. Regis Mohawk Tribe | 1,312,298 | 0.606038
752 | Standing Rock Sioux Tribe | 3,089,105 | 1.426592
759 | Stillaguamish Board of Directors | 125,658 | 0.058031
760 | Stockbridge-Munsee Tribal Council | 981,554 | 0.453295
764 | Summit Lake Paiute Council |  | 0.000000
765 | Suquamish Tribal Council | 286,473 | 0.132297
766 | Susanville Indian Rancheria | 8,902 | 0.004111
768 | Swinomish Indian Tribal Community | 542,934 | 0.250735
778 | Taos Pueblo | 423,680 | 0.195661
779 | Tate Topa Tribal School (Four Winds) |  | 0.000000
786 | Te-Moak Tribe of Western Shoshone |  | 0.000000
789 | The Hopi Credit Association |  | 0.000000
794 | Three Affiliated Tribes | 2,028,688 | 0.936877
796 | Tiospa Zina Tribal School | 180,521 | 0.083367
800 | Tohono O'Odham Nation | 2,772,780 | 1.280509
801 | Toiyabe Indian Health Project, Inc. |  | 0.000000
806 | Tonkawa Tribe of Oklahoma | 137,491 | 0.063495
809 | Torres Martinez Desert Cahuilla Indians |  | 0.000000
817 | Tulalip Tribes of Washington | 791,522 | 0.365536
818 | Tule River Indian Tribe | 238,390 | 0.110092
820 | Tunica-Biloxi Indian Tribe of Louisiana |  | 0.000000
824 | Turtle Mountain Band of Chippewa | 3,555,229 | 1.641855
825 | Turtle Mountain Community College | 1,500,329 | 0.692873
830 | Twin Buttes Day School |  | 0.000000
844 | United Crow Band Inc |  | 0.000000
846 | United Sioux Tribes | 731,489 | 0.337812
847 | United Tribes Technical College | 1,464,011 | 0.676101
852 | Upper Sioux Community | 38,595 | 0.017824
853 | Upper Skagit Tribal Council | 437,362 | 0.201980
854 | Ute Indian Tribe | 1,438,620 | 0.664375
855 | Ute Mountain Ute Tribe | 868,501 | 0.401086
864 | Walker River Paiute Tribal Council | 179,311 | 0.082808
865 | Wampanoag Tribe of Gay Head (Aquinnah) | 4,202 | 0.001941
870 | Washoe Tribe of Nevada and CA | 319,730 | 0.147656
875 | White Earth Band of Chippewa Indians | 2,301,859 | 1.063031
879 | White Shield School |  | 0.000000
881 | Wichita and Affiliated Tribes | 245,788 | 0.113508
884 | Winnebago Tribe of Nebraska | 825,054 | 0.381022
887 | Wounded Knee District School |  | 0.000000
889 | Wyandotte Tribe of Oklahoma |  | 0.000000
890 | Yakama Tribal Council | 4,317,311 | 1.993795
892 | Yakutat Tlingit Tribe |  | 0.000000
893 | Yankton Sioux Tribe | 221,908 | 0.102480
895 | Yavapai-Prescott Board of Directors | 66,141 | 0.030545
896 | Yerington Paiute Tribe | 130,557 | 0.060293
897 | Yomba Shoshone Tribe | 19,365 | 0.008943
898 | Yselta Del Sur Pueblo |  | 0.000000
901 | Zia Pueblo | 90,555 | 0.041820
902 | Zuni Pueblo | 3,570,157 | 1.648749
908 | Bay Mills Community College | 754,877 | 0.348613
917 | Cglala Lakota Community College | 2,876,253 | 1.328294
920 | Cheyenne River Community College | 34,578 | 0.015969
930 | Crazy Horse School |  | 0.000000
935 | Dibe Yazhi Habitiin Olta, Inc. (Borrego, Pass) |  | 0.000000
940 | Dull Knife Memorial College | 494,499 | 0.228367
946 | Fort Berthold Community College |  | 0.000000
962 | Kickapoo Nation School |  | 0.000000
968 | Leupp Boarding School |  | 0.000000
983 | Northwest Indian College | 1,502,076 | 0.693680
998 | Salish Kootenai College | 2,059,150 | 0.950945
1026 | Tuba City Boarding School |  | 0.000000
1033 | Wingate Board of Education |  | 0.000000
1037 | Oglala Sioux Tribe Department of Public Safety |  | 0.000000
1039 | Great Lakes Indian Fish & Wildlife Commission | 133,100 | 0.061467
1040 | 1854 Authority |  | 0.000000
1042 | Ogala Sioux Parks & Recreation Authority |  | 0.000000
1043 | Navajo Area School Board Assoc. Inc. |  | 0.000000
1044 | Tohatchi Special Edu. & Training Center | 243,813 | 0.112596
1046 | Bristol Bay Native Association |  | 0.000000
1047 | Columbia River Inter-Tribal Fish Commission | 317,125 | 0.146453
1050 | Covelo Indian Community Council |  | 0.000000
1051 | Dakota Plains Institute of Learning |  | 0.000000
1052 | Eeda Consortium of Tribes |  | 0.000000
1053 | Great Lakes Inter-Tribal Council |  | 0.000000
1055 | Inter-Tribal Council of Michigan, Inc. | 903,085 | 0.417057
1058 | Local Indian Education Committee, Inc. |  | 0.000000
1059 | Lummi Community College |  | 0.000000
1061 | Native American Fish & Wildlife Society |  | 0.000000
1064 | North Pacific Rim | 224,171 | 0.103525
1065 | Northwest Intertribal Court System | 150,475 | 0.069491
1066 | Northern Plains Inter-Tribal Court System |  | 0.000000
1070 | Sioux City Indian Education Committee |  | 0.000000
1071 | Skagit System Cooperative | 82,613 | 0.038152
1072 | Sky People Education Committee |  | 0.000000
1073 | Turning Point |  | 0.000000
| Total Class Members | 216,537,344 | 100.000000
* Total Federal Funds shown on Schedule of Federal Financial Assistance less BIA, IHS, construction and other adjustments to delete non-federal funds.

Ramah Navajo Chapter—Independent CPA's Final Share Percentage Schedule, 1992
[Prepared Per Paragraphs 11 & 12, Appendix D, Partial Settlement Agreement]
ID | Tribe name | Column C: Net other federal funds* (1992) | Tribe's share (%) of total of 1992 net other federal funds (Tribe's column C amount/total of all column C amounts for 1992)
1 | Absentee-Shawnee Tribe of Oklahoma | 94,690 | 0.036925
2 | Acoma Pueblo |  | 0.000000
11 | Akiachak Native Community | 157,046 | 0.061240
14 | Alabama-Coushatta Tribal Council | 1,089,633 | 0.424905
17 | Alamo Navajo School Board Inc | 956,613 | 0.373033
24 | All Indian Pueblo Council | 562,383 | 0.219302
33 | Angoon Village (IRA) |  | 0.000000
36 | Apache Tribe of Oklahoma |  | 0.000000
37 | Northern Arapaho Tribe | 1,020,863 | 0.398088
42 | Assiniboine and Sioux Tribes of Fort Peck | 3,779,974 | 1.474009
43 | Association of Village Council Presidents Inc | 3,550,553 | 1.384546
51 | Bad River Band of Lake Superior Chippewa Indians of Wisconsin | 1,245,738 | 0.485778
56 | Bay Mills Indian Community | 145,954 | 0.056915
58 | Bear River Band of Rohnerville Rancheria |  | 0.000000
66 | Orutsararmuit Native Council | 133,595 | 0.052096
67 | Big Lagoon Rancheria |  | 0.000000
68 | Big Pine Paiute Shoshone Band | 150,295 | 0.058608
74 | Bishop Pauite Tribe | 144,453 | 0.056330
76 | Black Mesa Community School |  | 0.000000
77 | Blackfeet Tribe | 5,181,183 | 2.020413
78 | Blue Lake Rancheria of California | 120,700 | 0.047067
79 | Board of Directors Trenton Indian Service Area | 379,085 | 0.147825
89 | Burns-Paiute General Council | 73,413 | 0.028628
93 | Caddo Tribe of Oklahoma | 323,243 | 0.126049
95 | Cahuilla Band of Indians |  | 0.000000
97 | Campo Band of Mission Indians |  | 0.000000
108 | Central Council Tlingit and Haida Tribes of Alaska | 2,815,009 | 1.097719
114 | Confederated Tribes of the Chehalis Reservation | 208,618 | 0.081351
115 | Chemehuevi Tribal Council |  | 0.000000
117 | Cher-Ae Heights Indian Community of the Trinidad Rancheria | 107,135 | 0.041778
118 | Eastern Band of Cherokee Indians/Cherokee Boy's Club, Inc | 3,635,147 | 1.417533
120 | Cherokee Nation of Oklahoma | 15,727,679 | 6.133041
122 | Cheyenne River Sioux Tribe | 2,972,437 | 1.159108
123 | Cheyenne-Arapaho Tribe | 1,071,201 | 0.417717
126 | Chickasaw Nation of Oklahoma | 3,114,358 | 1.214450
138 | Chippewa-Cree Tribe | 980,183 | 0.382224
141 | Chitimacha Tribe of Louisiana | 22,284 | 0.008690
144 | Choctaw Nation of Oklahoma | 4,530,825 | 1.766805
152 | Cibecue Community Edu. Board, Inc |  | 0.000000
156 | Citizen Band Potawatomi Tribe | 1,346,349 | 0.525012
161 | Coast Indian Community of the Resighini Rancheria | 880 | 0.000343
164 | Coeur D'Alene Tribal Council | 1,176,156 | 0.458644
167 | Colorado River Tribal Council | 2,424,299 | 0.945360
171 | Comanche Tribe of Oklahoma | 1,014,967 | 0.395788
173 | Confederated Salish & Kootenai Tribal Council | 6,858,861 | 2.674627
174 | Confederated Tribes of Coos, Lower Umpqua, & Siuslaw Indians | 126,847 | 0.049464
176 | Confederated Tribes of the Colville Reservation | 4,123,317 | 1.607896
177 | Confederated Tribes of the Grand Ronde Tribal Council | 460,675 | 0.179641
178 | Confederated Tribes of the Warm Springs Reservation | 1,808,038 | 0.705048
179 | Confederated Tribes of Umatilla Indian Reservation | 1,888,650 | 0.736483
181 | Cook Inlet Tribal Council | 2,696,918 | 1.051669
185 | Coquille Indian Tribe | 144,765 | 0.056451
191 | Coushatta Tribe of Louisiana | 216,670 | 0.084491
193 | Cow Creek Band of Umpqua Indians |  | 0.000000
198 | Crow Creek Sioux | 1,324,738 | 0.516584
199 | Crow Creek Sioux Tribal High School |  | 0.000000
200 | Crow Tribe of Indians |  | 0.000000
208 | Delaware Tribe of Western Oklahoma | 172,956 | 0.067445
217 | Duck Valley Shoshone-Paiute Tribes | 397,659 | 0.155068
219 | Duckwater Shoshone Tribal Council | 273,431 | 0.106625
222 | Eastern Shawnee Tribe of Oklahoma | 72,268 | 0.028181
232 | Elk Valley Rancheria |  | 0.000000
234 | Ely Indian Colony of Western Shoshone | 70,085 | 0.027330
236 | Enemy Swim Day School |  | 0.000000
240 | Fairbanks Native Association | 826,932 | 0.322464
241 | Fallon Colony | 163,968 | 0.063940
243 | Flagstaff Dormitory |  | 0.000000
244 | Flandreau Santee Sioux | 122,382 | 0.047723
246 | Fond Du Lac Ojibwe School | 1,846,628 | 0.720096
248 | Forest County Potawatomi Executive Council | 216,774 | 0.084531
250 | Fort Belknap Community Council | 2,872,515 | 1.120143
251 | Fort Bidwell Indian Community of Paiute Indians |  | 0.000000
256 | Fort McDowell Mohave-Apache Indian Comm | 170,677 | 0.066556
257 | Fort Mojave Indian Tribe | 415,723 | 0.162112
260 | Fort Yukon Village (IRA) |  | 0.000000
263 | Gambell Village |  | 0.000000
266 | Gila River Indian Community | 3,149,049 | 1.227978
268 | Confederated Tribes of the Goshute Reservation | 11,258 | 0.004390
269 | Grand Portage Band of the Ojibwe | 463,580 | 0.180774
270 | Grand Traverse Band of Ottawa & Chippewa Indians | 1,045,113 | 0.407544
274 | Greyhills Academy High School |  | 0.000000
280 | Hannahvile Indian School | 186,463 | 0.072712
284 | Havasupai Tribal Council | 513,821 | 0.200366
286 | Ho-Chunk Nation | 842,706 | 0.328615
288 | Hoh Tribe | 114,275 | 0.044562
291 | Hoopa Valley Tribe | 1,016,109 | 0.396234
295 | Hopi Tribal council | 2,660,815 | 1.037590
299 | Houlton Band of Maliseet Indians | 75,009 | 0.029250
300 | Hualapai TribaL council | 1,490,852 | 0.581361
320 | Iowa Tribe of Oklahoma | 219,522 | 0.085603
322 | Pueblo of Isleta | 623,457 | 0.243118
327 | Jamestowns' Klallam Tribal Council | 258,022 | 0.100616
330 | Jemez Pueblo | 642,775 | 0.250651
332 | Jicarilla Apache Tribe | 770,802 | 0.300576
334 | Passamaquoddy Tribe—Indian Township | 228,619 | 0.089150
336 | Kaibab-Paiute Tribal Council | 30,617 | 0.011939
338 | Organized Village of Kake | 40,766 | 0.015897
340 | Kalispel Tribe | 111,887 | 0.043631
345 | Karuk Tribe of California | 313,506 | 0.122252
349 | Kaw Nation of Oklahoma | 58,114 | 0.022662
350 | Kawerak Inc | 1,519,710 | 0.592614
353 | Ketchikan Indian Corporation (IRA) | 270,548 | 0.105501
354 | Keweenaw Bay Indian Community | 191,799 | 0.074792
356 | Kiana Village |  | 0.000000
358 | Kickapoo Traditional Tribe of Texas |  | 0.000000
359 | Kickapoo Tribe of Kansas | 261,312 | 0.101899
360 | Kickapoo Tribe of Oklahoma | 149,574 | 0.058327
365 | Kiowa Tribe of Oklahoma | 805,459 | 0.314090
369 | Klamath General Council | 1,287,791 | 0.502177
378 | Kootenai Tribal Council | 377,494 | 0.147205
380 | Kotzebue Village (IRA) |  | 0.000000
384 | Kuskokwim Native Association | 248,045 | 0.096726
385 | Kwethluk Village (IRA) | 72,740 | 0.028365
386 | Kwigillingok Village (IRA) |  | 0.000000
388 | La Jolla Band of Indians |  | 0.000000
391 | Lac Courte Oreilles Governing Board | 2,085,027 | 0.813061
392 | Lac du Flambeau Band of Lake Superior Chippewa Indians | 1,493,681 | 0.582464
393 | Lac Vieux Desert Band of Lake Superior Chippewa Indians | 109,209 | 0.042586
395 | Laguna Pueblo | 1,609,958 | 0.627806
397 | Larsen Bay Village |  | 0.000000
398 | Las Vegas Tribal Council | 295,159 | 0.115098
401 | Leech Lake Band of Ojibwe | 3,215,888 | 1.254042
408 | Little Singer Community School |  | 0.000000
411 | Little Wound School |  | 0.000000
413 | Loneman Day School |  | 0.000000
419 | Lower Brule Sioux | 680,631 | 0.265413
420 | Lower Elwha Community Council | 636,058 | 0.248032
423 | Lower Sioux Indian Community Council |  | 0.000000
426 | Lummi Nation | 1,317,614 | 0.513806
430 | Maineindian Education | 739,388 | 0.288326
431 | Makah Tribal Council | 936,874 | 0.365336
440 | Manzanita Band of Mission Indians | 23,526 | 0.009174
443 | Marty Indian School |  | 0.000000
445 | Mashantucket Pequot Tribe | 72,874 | 0.028417
450 | Menominee Indian Tribe of Wisconsin | 1,755,032 | 0.684378
452 | Mentasta Lake Village |  | 0.000000
453 | Mesa Grande Band of Mission Indians | 15,994 | 0.006237
455 | Mescalero Apache Tribe |  | 0.000000
456 | Metlakatla Indian Community Council | 511,440 | 0.199437
459 | Miami Tribe of Oklahoma | 231,683 | 0.090345
461 | Miccosukee Tribe of Florida Indians | 1,155,620 | 0.450636
463 | Mille Lacs Reservation Business Committee | 1,010,125 | 0.393900
464 | Minnesota Chippewa Tribal Executive Committee | 1,004,075 | 0.391541
466 | Mississippi Band of Choctaw Indians | 6,924,965 | 2.700404
467 | Moapa Business Council | 23,215 | 0.009053
471 | Concow Maidu Tribe of Mooretown Rancheria |  | 0.000000
473 | Muckleshoot Tribal Council | 717,672 | 0.279858
475 | Muscogee (Creek) Nation of Oklahoma | 2,368,307 | 0.923526
479 | Pueblo of Nambe | 79,032 | 0.030819
484 | Narragansett Indian Tribe | 178,559 | 0.069629
489 | Navajo Preparatory School | 51,961 | 0.020262
495 | Nett Lake Reservation (Bois Forte) Tribe | 737,476 | 0.287580
502 | Nez Perce Tribe | 3,335,742 | 1.300780
507 | Nisqually Indian Community Council | 1,349,919 | 0.526404
511 | Nome Eskimo Community | 876 | 0.000342
515 | Nooksack Indian Tribe | 332,434 | 0.129633
518 | Northern Cheyenne Tribal Schools | 317,842 | 0.123943
519 | Northern Cheyenne Tribe | 2,472,485 | 0.964151
521 | Northwest Indian Fisheries Commission | 211,630 | 0.082526
522 | Northwestern Band of Shoshoni Nation |  | 0.000000
528 | Oglala Sioux Tribe | 7,054,551 | 2.750937
530 | Ojibwa Indian School |  | 0.000000
534 | Omaha Tribe of Nebraska | 784,041 | 0.305738
536 | Oneida Tribal Council of Wisconsin | 4,104,671 | 1.600625
540 | Osage Tribe of Indians of Oklahoma | 1,479,254 | 0.576838
542 | Otoe-Missouria Tribe of Oklahoma | 986,925 | 0.384853
548 | Paiute Indian Tribe of Utah | 62,607 | 0.024414
551 | Paschal Sherman Indian School |  | 0.000000
552 | Pascua Yaqui Tribal Council | 906,038 | 0.353311
555 | Passamaquoddy Tribe—Pleasant Point | 294,083 | 0.114678
557 | Pauma Band of Mission Indians |  | 0.000000
558 | Pawnee Tribe of Oklahoma | 314,098 | 0.122483
561 | Penobscot Nation | 458,935 | 0.178963
562 | Peoria Tribe of Indians of Oklahoma |  | 0.000000
566 | Pueblo of Picuris |  | 0.000000
567 | Pierre Indian Learning Center |  | 0.000000
574 | Pinon Community School Board Inc |  | 0.000000
584 | Poarch Band of Creek Indians | 767,417 | 0.299256
587 | Point No Point Treaty Council | 60,624 | 0.023640
591 | Ponca Tribe of Oklahoma | 516,250 | 0.201313
592 | Porcupine Day School |  | 0.000000
593 | Port Gamble S'Klallam Tribe | 637,274 | 0.248506
599 | Prairie Band Potawatomi Tribe of Kansas | 98,276 | 0.038323
600 | Prairie Island Community Council | 22,353 | 0.008717
603 | Pueblo of Santa Clara | 484,984 | 0.189121
604 | Puyallup Tribal Council | 780,861 | 0.304498
606 | Pyramid Lake Paiute Tribal Council | 420,749 | 0.164072
609 | Quapaw Tribe of Oklahoma | 57,975 | 0.022607
611 | Quechan Indian Tribe | 982,613 | 0.383172
612 | Quileute Tribal Council | 753,195 | 0.293710
614 | Quinault Indian Nation | 932,247 | 0.363532
615 | Ramah Navajo School Board Inc | 663,097 | 0.258576
621 | Red Cliff Tribal Council | 1,372,653 | 0.535269
629 | Redding Rancheria | 80,475 | 0.031381
631 | Reno-Sparks Indian Colony | 597,210 | 0.232883
634 | Rincon Band of Luiseno Indians |  | 0.000000
638 | Rock Point Community School | 839,210 | 0.327252
641 | Rosebud Sioux Tribe | 4,698,160 | 1.832057
644 | Rough Rock Community School |  | 0.000000
651 | Sac and Fox Nation of Oklahoma | 447,554 | 0.174525
653 | Sac and Fox Tribal of the Mississippi in Iowa | 171,370 | 0.066826
655 | Saginaw Chippewa Tribal Council | 279,620 | 0.109038
660 | Salt River Pima-Maricopa Indian Tribe | 1,629,200 | 0.635310
662 | San Carols Apache Tribal Council | 1,781,366 | 0.694647
663 | Pueblo de San Felipe |  | 0.000000
666 | San Juan Pueblo | 24,31 | 0.009605
667 | San Juan Southern Pauite Indians |  | 0.000000
672 | Sandia Pueblo |  | 0.000000
674 | Santa Ana Pueblo | 173,748 | 0.067753
677 | Santa Fe Indian School |  | 0.000000
682 | Santa Ysabel Band of Diegueno Indians |  | 0.000000
683 | Santee Sioux Tribe of Nebraska | 330,143 | 0.128740
685 | Sauk-Suiattle Tribal Council | 126,127 | 0.049183
686 | Sault Ste Marie Chippewa Tribal Council | 2,233,590 | 0.870993
693 | Selawik Village (IRA) |  | 0.000000
695 | Seminole Nation of Oklahoma | 860,582 | 0.335586
696 | Seminole Tribe of Florida | 2,192,412 | 0.854936
697 | Seneca Nation of Indians | 2,108,041 | 0.822035
698 | Seneca-Cayuga Tribe of Oklahoma | 229,284 | 0.089410
700 | Shakopee Mdewakanton Sioux Community |  | 0.000000
706 | Sherwood Valley Band of Pomo Indians | 211,854 | 0.082613
710 | Shiprock Reservation Dormitory |  | 0.000000
712 | Shoalwater Bay Tribal Council | 33,690 | 0.013137
716 | Joint Business Council Shoshone/Arapaho Tribes | 2,850,111 | 1.111407
718 | Shoshone-Bannock Tribe | 3,052,156 | 1.190195
720 | Sinte Gleska College | 1,188,139 | 0.463317
721 | Sisseton-Wahpeton Sioux Tribe | 940,416 | 0.366717
722 | Sitka Village (IRA) | 272,435 | 0.106237
724 | Skokomish Tribal Council | 887,818 | 0.346206
729 | Smith River Rancheria of California |  | 0.000000
732 | Sokaogon Chippewa Tribal Council | 220,350 | 0.085926
740 | Southern UTE Indian Tribe | 738,111 | 0.287828
741 | Spirit Lake Sioux Tribe | 1,185,573 | 0.462317
742 | Spokane Tribe | 1,196,059 | 0.466406
743 | Squaxin Island Tribal Council | 163,171 | 0.063629
744 | St. Francis Indian School |  | −0.000000
746 | St. Stephens Indian School | 416,431 | 0.162388
747 | St. Croix Council of Wisconsin | 344,077 | 0.134174
748 | St. Micheals |  | −0.000000
749 | St. Regis Mohawk Tribe | 1,403,797 | 0.547414
752 | Standing Rock Sioux Tribe | 3,243,817 | 1.264933
759 | Stillaguamish Board Of Directors | 140,464 | 0.054774
760 | Stockbridge-Munsee Tribal Council | 779,846 | 0.304103
764 | Summit Lake Paiute Council |  | 0.000000
765 | Suquamish Tribal Council | 386,973 | 0.150901
766 | Susanville Indian Rancheria |  | 0.000000
768 | Swinomish Indian Tribal Community | 570,496 | 0.222466
778 | Taos Pueblo | 518,008 | 0.201998
779 | Tate Topa Tribal School (Four Winds) |  | 0.000000
786 | Te-Moak Tribe of Western Shoshone |  | 0.000000
789 | The Hopi Credit Association |  | 0.000000
794 | Three Affiliated Tribes | 2,406,552 | 0.938440
796 | Tiospa Zina Tribal School | 195,634 | 0.076288
800 | Tohono O'Odham Nation | 3,524,196 | 1.374268
801 | Toiyabe Indian Health Project, Inc. | 461,758 | 0.180063
806 | Tonkawa Tribe of Oklahoma | 87,062 | 0.033950
809 | Torres Martinez Desert Cahuilla Indians |  | 0.000000
817 | Tulalip Tribes of Washington | 716,117 | 0.279251
818 | Tule River Indian Tribe | 488,948 | 0.190666
820 | Tunica-Biloxi Indian Tribe of Louisiana | 18,045 | 0.007037
824 | Turtle Mountain Band of Chippewa | 4,354,134 | 1.697904
825 | Turtle Mountain Community College | 1,630,238 | 0.635715
830 | Twin Buttes Day School |  | 0.000000
844 | United Crow Band Inc |  | 0.000000
846 | United Sioux Tribes | 788,489 | 0.307473
847 | United Tribes Technical College | 1,661,820 | 0.648030
852 | Upper Sioux Community | 32,146 | 0.012535
853 | Upper Skagit Tribal Council | 233,101 | 0.090898
854 | Ute Indian Tribe | 1,544,246 | 0.602182
855 | Ute Mountain UTE Tribe | 879,302 | 0.342886
864 | Walker River Paiute Tribal Council | 218,861 | 0.085345
865 | Wampanoag Tribe of Gay Head (Aquinnah) | 242,990 | 0.094754
870 | Washoe Tribe of Nevada and CA | 227,416 | 0.088681
875 | White Earth Band of Chippewa Indians | 2,543,751 | 0.991941
879 | White Shield School |  | 0.000000
881 | Wichita and Affiliated Tribes | 259,252 | 0.101096
884 | Winnebago Tribe of Nebraska | 921,959 | 0.359520
887 | Wounded Knee District School |  | 0.000000
889 | Wyandotte Tribe of Oklahoma |  | 0.000000
890 | Yakama Tribal Council | 4,730,957 | 1.844847
892 | Yakutat Tlingit Tribe | 51,887 | 0.020233
893 | Yankton Sioux Tribe | 624,369 | 0.243474
895 | Yavapai-Prescott Board of Directors | 171,313 | 0.066804
896 | Yerington Paiute Tribe | 249,167 | 0.097163
897 | Yomba Shoshone Tribe | 9,043 | 0.003526
898 | Yselta Del Sur Pueblo |  | 0.000000
901 | Zia Pueblo | 70,187 | 0.027370
902 | Zuni Pueblo | 3,064,059 | 1.194836
908 | Bay Mills Community College | 410,315 | 0.160003
917 | Cglala Lakota Community College | 2,202,636 | 0.858922
920 | Cheyenne River Community College 274,967 | 0.107224
930 | Crazy Horse School |  | 0.000000
935 | Dibe Yazhi Habitiin Olta, Inc. (Borrego, Pass) |  | 0.000000
940 | Dull Knife Memorial College | 464,152 | 0.180997
946 | Fort Berthold Community College |  | 0.000000
962 | Kickapoo Nation School |  | 0.000000
968 | Leupp Boarding School |  | 0.000000
983 | Northwest Indian College | 1,697,210 | 0.661831
998 | Salish Kootenai College | 2,389,517 | 0.931797
1026 | Tuba City Boarding School |  | 0.000000
1033 | Wingate Board of Education |  | 0.000000
1037 | Oglala Sioux Tribe Department of Public Safety |  | 0.000000
1039 | Great Lakes Indian Fish & Wildlife Commission | 174,318 | 0.067976
1040 | 1854 Authority |  | 0.000000
1042 | Oglala Sioux Parks & Recreation Authority |  | 0.000000
1043 | Navajo Area School Board Assoc. Inc. |  | 0.000000
1044 | Tohatchi Special Edu. & Training Center | 195,532 | 0.076248
1046 | Bristol Bay Native Association |  | 0.000000
1047 | Columbia River Inter-Tribal Fish Commission | 1,618,041 | 0.630958
1050 | Covelo Indian Community Council |  | 0.000000
1051 | Dakota Plains Institute of Learning |  | 0.000000
1052 | Eeda Consortium of Tribes |  | 0.000000
1053 | Great Lakes Inter-Tribal Council 1,193,780 | 0.465517
1055 | Inter-Tribal Council of Michigan, Inc. | 2,396,344 | 0.934459
1058 | Local Indian Education Committee, inc. |  | 0.000000
1059 | Lummi Community College |  | 0.000000
1061 | Native American Fish & Wildlife Society | 231,966 | 0.090456
1064 | North Pacific Rim | 376,317 | 0.146746
1065 | Northwest Intertribal Court System | 130,015 | 0.050700
1066 | Northern Plains Inter-Tribal Court System |  | 0.000000
1070 | Sioux City Indian Education Committee |  | 0.000000
1071 | Skagit System Cooperative | 155,376 | 0.060589
1072 | Sky People Education Committee |  | 0.000000
1073 | Turning Point |  | 0.000000
| Total class member | 256,441,769 | 100.000000
* Total Federal Funds shown on Schedule of Federal Financial Assistance less BIA, IHS, construction and other adjustments to delete non-federal funds.

Ramah Navajo Chapter—Independent CPA's Final Share Percentage Schedule, 1993
[Prepared Per Paragraphs 11 & 12, Appendix D, Partial Settlement Agreement]
ID | Tribe name | Column C: Net other federal funds* (1993) | Tribe's share (%) of total of 1993 net other federal funds (Tribe's column C amount/Total of all column C amounts for 1993)
1 | Absentee-Shawnee Tribe of Oklahoma | 200,118 | 0.065220
2 | Acoma Pueblo | 1,087,663 | 0.354480
11 | Akiachak Native Community | 81,529 | 0.026571
14 | Alabama-Coushatta Tribal Council | 1,333,443 | 0.434582
17 | Alamo Navajo School Board Inc | 1,183,355 | 0.385667
24 | All Indian Pueblo Council | 1,256,539 | 0.409518
33 | Angoon Village (IRA) |  | 0.000000
36 | Apache Tribe of Oklahoma |  | 0.000000
37 | Northern Arapaho Tribe | 1,098,869 | 0.358132
42 | Assiniboine and Sioux Tribes of Fort Peck | 4,532,734 | 1.477262
43 | Association of Village Council Presidents Inc | 5,977,090 | 1.947991
51 | Bad River Band of Lake Superior Chippewa Indians of Wisconsin | 828,632 | 0.270059
56 | Bay Mills Indian Community | 205,242 | 0.066890
58 | Bear River Band of Rohnerville Rancheria |  | 0.000000
66 | Orutsararmuit Native Council | 234,243 | 0.076342
67 | Big Lagoon Rancheria | 35,686 | 0.011630
68 | Big Pine Paiute Shoshone Band | 172,535 | 0.056231
74 | Bishop Paiute Tribe | 134,151 | 0.043721
76 | Black Mesa Community School |  | 0.000000
77 | Blackfeet Tribe | 5,804,692 | 1.891805
78 | Blue Lake Rancheria of California | 168,474 | 0.054907
79 | Board of Directors Trenton Indian Service Area | 298,253 | 0.097204
89 | Burns-Paiute General Council | 78,580 | 0.025610
93 | Caddo Tribe of Oklahoma | 333,482 | 0.108685
95 | Cahuilla Band of Indians | 35,381 | 0.011531
97 | Campo Band of Mission Indians | 254,226 | 0.082855
108 | Central Council Tlingit and Haida Tribes of Alaska | 3,601,364 | 1.173719
114 | Confederated Tribes of the Chehalis Reservation | 261,838 | 0.085336
115 | Chemehuevi Tribal Council |  | 0.000000
117 | Cher-Ae Heights Indian Community of the Trinidad Rancheria | 115,816 | 0.037746
118 | Eastern Band of Cherokee Indians/Cherokee Boy's Club, Inc | 5,931,580 | 1.933159
120 | Cherokee Nation of Oklahoma | 20,561,807 | 6.701291
122 | Cheyenne River Sioux Tribe | 3,500,922 | 1.140984
123 | Cheyenne-Arapaho Tribe | 1,244,237 | 0.405509
126 | Chickasaw Nation of Oklahoma | 3,163,082 | 1.030879
138 | Chippewa-Cree Tribe | 902,701 | 0.294199
141 | Chitimacha Tribe of Louisiana | 64,376 | 0.020981
144 | Choctaw Nation of Oklahoma | 5,607,651 | 1.827587
152 | Cibecue Community Edu. Board, Inc |  | 0.000000
156 | Citizen Band Potawatomi Tribe | 1,425,314 | 0.464524
161 | Coast Indian Community of the Resighini Rancheria | 2,498 | 0.000814
164 | Coeur D'Alene Tribal Council | 1,202,051 | 0.391760
167 | Colorado River Tribal Council | 2,399,853 | 0.782135
171 | Comanche Tribe of Oklahoma | 944,726 | 0.307895
173 | Confederated Salish & Kootenai Tribal Council | 7,183,046 | 2.341024
174 | Confederated Tribes of Coos, Lower Umpqua, & Siuslaw Indians | 2,543 | 0.000829
176 | Confederated Tribes of the Colville Reservation | 4,247,357 | 1.384255
177 | Confederated Tribes of the Grand Ronde Tribal Council | 476,410 | 0.155267
178 | Confederated Tribes of the Warm Springs Reservation | 2,014,084 | 0.656409
179 | Confederated Tribes of Umatilla Indian Reservation | 3,075,772 | 1.002424
181 | Cook Inlet Tribal Council | 2,703,405 | 0.881066
185 | Coquille Indian Tribe | 184,080 | 0.059993
191 | Coushatta Tribe of Louisiana | 121,737 | 0.039675
193 | Cow Creek Band of Umpqua Indians | 3,221 | 0.001050
198 | Crow Creek Sioux | 1,044,194 | 0.340313
199 | Crow Creek Sioux Tribal High School |  | 0.000000
200 | Crow Tribe of Indians | 2,745,121 | 0.894661
208 | Delaware Tribe of Western Oklahoma | 107,832 | 0.035143
217 | Duck Valley Shoshone-Paiute Tribes | 578,067 | 0.188398
219 | Duckwater Shoshone Tribal Council | 244,938 | 0.079828
222 | Eastern Shawnee Tribe of Oklahoma | 313,720 | 0.102244
232 | Elk Valley Rancheria | 122,994 | 0.040085
234 | Ely Indian Colony of Western Shoshone | 63,668 | 0.020750
236 | Enemy Swim Day School |  | 0.000000
240 | Fairbanks Native Association | 731,742 | 0.238482
241 | Fallon Colony | 221,627 | 0.072230
243 | Flagstaff Dormitory |  | 0.000000
244 | Flandreau Santee Sioux | 122,089 | 0.039790
246 | Fond Du Lac Ojibwe School | 2,107,846 | 0.686967
248 | Forest County Potawatomi Executive Council | 426,313 | 0.138940
250 | Fort Belknap Community Council | 3,176,670 | 1.035307
251 | Fort Bidwell Indian Community of Paiute Indians | 42,602 | 0.013884
256 | Fort McDowell Mohave-Apache Indian | 132,552 | 0.043200
257 | Fort Mojave Indian Tribe | 513,161 | 0.167244
260 | Fort Yukon Village (IRA) |  | 0.000000
263 | Gambell Village |  | 0.000000
266 | Gila River Indian Community | 3,778,609 | 1.231485
268 | Confederated Tribes of the GoShute Reservation |  | 0.000000
269 | Grand Portage Band of the Ojibwe | 464,739 | 0.151463
270 | Grand Traverse Band of Ottawa & Chippewa Indians | 1,077,640 | 0.351213
274 | Greyhills Academy High School |  | 0.000000
280 | Hannahvile Indian School | 190,861 | 0.062203
284 | Havasupai Tribal Council | 561,156 | 0.182886
286 | Ho-Chunk Nation | 1,149,213 | 0.374540
288 | Hoh Tribe | 75,977 | 0.024762
291 | Hoopa Valley Tribe | 1,326,305 | 0.432256
295 | Hopi Tribal Council | 3,598,966 | 1.172938
299 | Houlton Band of Maliseet Indians | 143,761 | 0.046853
300 | Hualapai Tribal Council | 1,759,032 | 0.573285
320 | Iowa Tribe of Oklahoma | 128,985 | 0.042037
322 | Pueblo of Isleta | 638,484 | 0.208088
327 | Jamestown S'Klallam Tribal Council | 337,661 | 0.110047
330 | Jemez Pueblo | 536,825 | 0.174956
332 | Jicarilla Apache Tribe | 1,082,459 | 0.352784
334 | Passamaquoddy Tribe—Indian Township | 386,465 | 0.125953
336 | Kaibab-Paiute Tribal Council |  | 0.000000
338 | Organized Village of Kake |  | 0.000000
340 | Kalispel Tribe | 230,164 | 0.075013
345 | Karuk Tribe of California | 288,890 | 0.094152
349 | Kaw Nation of Oklahoma | 82,001 | 0.026725
350 | Kawerak Inc | 1,882,571 | 0.613548
353 | Ketchikan Indian Corporation (IRA) | 323,879 | 0.105555
354 | Keweenaw Bay Indian Community | 369,475 | 0.120415
356 | Kiana Village | 110,960 | 0.036163
358 | Kickapoo Traditional Tribe of Texas |  | 0.000000
359 | Kickapoo Tribe of Kansas | 591,740 | 0.192854
360 | Kickapoo Tribe of Oklahoma | 169,231 | 0.055154
365 | Kiowa Tribe of Oklahoma | 660,368 | 0.215220
369 | Klamath General Council | 1,042,156 | 0.339649
378 | Kootenai Tribal Council | 578,839 | 0.188649
380 | Kotzebue Village (IRA) |  | 0.000000
384 | Kuskokwim Native Association | 187,485 | 0.061103
385 | Kwethluk Village (IRA) | 74,077 | 0.024142
386 | Kwigillingok Village (IRA) |  | 0.000000
388 | La Jolla Band of Indians |  | 0.000000
391 | Lac Courte Oreilles Governing Board | 1,867,304 | 0.608572
392 | Lac Du Flambeau Band of Lake Superior Chippewa Indians | 1,606,813 | 0.523676
393 | Lac Vieux Desert Band of Lake Superior Chippewa Indians | 117,361 | 0.038249
395 | Laguna Pueblo | 1,079,794 | 0.351915
397 | Larsen Bay Village |  | 0.000000
398 | Las Vegas Tribal Council |  | 0.000000
401 | Leech Lake Band of Ojibwe | 3,817,921 | 1.244297
408 | Little Singer Community School |  | 0.000000
411 | Little Wound School |  | 0.000000
413 | Loneman Day School |  | 0.000000
419 | Lower Brule Sioux | 916,175 | 0.298590
420 | Lower Elwha Community Council | 565,188 | 0.184200
423 | Lower Sioux Indian Community Council |  | 0.000000
426 | Lummi Nation | 1,317,188 | 0.429284
430 | Maine Indian Education | 913,752 | 0.297801
431 | Makah Tribal Council | 1,031,128 | 0.336055
440 | Manzanita Band of Mission Indians | 316,919 | 0.103287
443 | Marty Indian School |  | 0.000000
445 | Mashantucket Pequot Tribe | 10,680 | 0.003481
450 | Menominee Indian Tribe of Wisconsin | 1,846,248 | 0.601710
452 | Mentasta Lake Village |  | 0.000000
453 | Mesa Grande Band of Mission Indians | 10,967 | 0.003574
455 | Mescalero Apache Tribe | 785,315 | 0.255942
456 | Metlakatla Indian Community Council | 539,485 | 0.175823
459 | Miami Tribe of Oklahoma | 351,057 | 0.114413
461 | Miccosukee Tribe of Florida Indians | 1,007,847 | 0.328467
463 | Mille Lacs Reservation Business Committee | 4,665,496 | 1.520530
464 | Minnesota Chippewa Tribal Executive Committee | 1,170,300 | 0.381412
466 | Mississippi Band of Choctaw Indians | 7,300,058 | 2.379159
467 | Moapa Business Council | 422,824 | 0.137802
471 | Concow Maidu Tribe of Mooretown Rancheria | 91,373 | 0.029779
473 | Muckleshoot Tribal Council | 874,700 | 0.285073
475 | Muscogee (Creek) Nation of Oklahoma | 3,876,342 | 1.263337
479 | Pueblo of Nambe | 291,274 | 0.094929
484 | Narragansett Indian Tribe | 407,842 | 0.132920
489 | Navajo Preparatory School | 40,768 | 0.013287
495 | Nett Lake Reservation (Bois Forte) Tribe | 872,269 | 0.284281
502 | Nez Perce Tribe | 3,733,352 | 1.216735
507 | Nisqually Indian Community Council | 1,451,508 | 0.473060
511 | Nome Eskimo Community |  | 0.000000
515 | Nooksack Indian Tribe | 455,346 | 0.148402
518 | Northern Cheyenne Tribal Schools | 407,573 | 0.132832
519 | Northern Cheyenne Tribe | 2,399,914 | 0.782155
521 | Northwest Indian Fisheries Commission | 251,193 | 0.081866
522 | Northwestern Band of Shoshoni Nation |  | 0.000000
528 | Oglala Sioux Tribe | 8,925,442 | 2.908887
530 | Ojibwa Indian School |  | 0.000000
534 | Omaha Tribe of Nebraska | 956,366 | 0.311689
536 | Oneida Tribal Council of Wisconsin | 3,563,267 | 1.161303
540 | Osage Tribe of Indians of Oklahoma | 1,641,764 | 0.535067
542 | Otoe-Missouria Tribe of Oklahoma | 1,180,917 | 0.384872
548 | Paiute Indian Tribe of Utah | 70,486 | 0.022972
551 | Paschal Sherman Indian School |  | 0.000000
552 | Pascua Yaqui Tribal Council | 1,379,178 | 0.449487
555 | Passamaquoddy Tribe—Pleasant Point | 438,794 | 0.143007
557 | Pauma Band of Mission Indians | 176,877 | 0.057646
558 | Pawnee Tribe of Oklahoma | 300,731 | 0.098011
561 | Penobscot Nation | 850,365 | 0.277142
562 | Peoria Tribe of Indians of Oklahoma |  | 0.000000
566 | Pueblo of Picuris |  | 0.000000
567 | Pierre Indian Learning Center |  | 0.000000
574 | Pinon Community School Board Inc |  | 0.000000
584 | Poarch Band of Creek Indians | 662,388 | 0.215879
587 | Point No Point Treaty Council | 98,296 | 0.032036
591 | Ponca Tribe of Oklahoma | 639,260 | 0.208341
592 | Porcupine Day School |  | 0.000000
593 | Port Gamble S'Klallam Tribe | 627,661 | 0.204561
599 | Prairie Band Potawatomi Tribe of Kansas | 197,214 | 0.064274
600 | Prairie Island Community Council |  | 0.000000
603 | Pueblo of Santa Clara | 504,374 | 0.164380
604 | Puyallup Tribal Council | 801,376 | 0.261176
606 | Pyramid Lake Paiute Tribal Council | 393,970 | 0.128399
609 | Quapaw Tribe of Oklahoma | 61,505 | 0.020045
611 | Quechan Indian Tribe | 957,179 | 0.311954
612 | Quileute Tribal Council | 634,426 | 0.206766
614 | Quinault Indian Nation | 899,238 | 0.293070
615 | Ramah Navajo School Board Inc | 707,173 | 0.230474
621 | Red Cliff Tribal Council | 1,542,244 | 0.502632
629 | Redding Rancheria | 182,511 | 0.059482
631 | Reno-Sparks Indian Colony | 375,711 | 0.122448
634 | Rincon Band of Luiseno Indians |  | 0.000000
638 | Rock Point Community School | 931,557 | 0.303603
641 | Rosebud Sioux Tribe | 4,592,099 | 1.496609
644 | Rough Rock Community School |  | 0.000000
651 | Sac and Fox Nation of Oklahoma | 549,500 | 0.179087
653 | Sac and Fox Tribal of the Mississippi in Iowa | 275,259 | 0.089710
655 | Saginaw Chippewa Tribal Council | 285,177 | 0.092942
660 | Salt River Pima-Maricopa Indian Tribe | 3,268,904 | 1.065367
662 | San Carlos Apache Tribal Council | 1,103,723 | 0.359714
663 | Pueblo De San Felipe | 1,035,393 | 0.337445
666 | San Juan Pueblo | 381,069 | 0.124194
667 | San Juan Southern Pauite Indians | 41,445 | 0.013507
672 | Sandia Pueblo |  | 0.000000
674 | Santa Ana Pueblo | 121,303 | 0.039534
677 | Santa Fe Indian School |  | 0.000000
682 | Santa Ysabel Band of Diegueno Indians |  | 0.000000
683 | Santee Sioux Tribe of Nebraska | 394,464 | 0.128560
685 | SaukSuiattle Tribal Council | 95,533 | 0.031135
686 | Sault Ste Marie Chippewa Tribal Council | 2,809,007 | 0.915482
693 | Selawik Village (IRA) |  | 0.000000
695 | Seminole Nation of Oklahoma | 850,921 | 0.277323
696 | Seminole Tribe of Florida | 3,135,162 | 1.021779
697 | Seneca Nation of Indians | 2,354,653 | 0.767404
698 | Seneca-Cayuga Tribe of Oklahoma | 162,895 | 0.053089
700 | Shakopee Mdewakanton Sioux Community |  | 0.000000
706 | Sherwood Valley Band of Pomo Indians | 278,652 | 0.090815
710 | Shiprock Reservation Dormitory |  | 0.000000
712 | Shoalwater Bay Tribal Council | 71,813 | 0.023405
716 | Joint Business Council Shoshone/Arapaho Tribes | 2,815,025 | 0.917444
718 | Shoshone-Bannock Tribe | 3,637,932 | 1.185637
720 | Sinte Gleska College | 1,352,755 | 0.440876
721 | Sisseton-Wahpeton Sioux Tribe | 1,240,488 | 0.404287
722 | Sitka Village (IRA) | 104,077 | 0.033920
724 | Skokomish Tribal Council | 815,226 | 0.265690
729 | Smith River Rancheria of California |  | 0.000000
732 | Sokaogon Chippewa Tribal Council |  | 0.000000
740 | Southern Ute Indian Tribe | 474,528 | 0.154653
741 | Spirit Lake Sioux Tribe | 1,083,863 | 0.353241
742 | Spokane Tribe | 1,526,120 | 0.497377
743 | Squaxin Island Tribal Council | 199,576 | 0.065044
744 | St. Francis Indian School |  | 0.000000
746 | St. Stephens Indian School | 395,459 | 0.128884
747 | St. Croix Council of Wisconsin | 463,763 | 0.151145
748 | St. Micheals |  | 0.000000
749 | St. Regis Mohawk Tribe | 1,553,211 | 0.506206
752 | Standing Rock Sioux Tribe | 4,357,627 | 1.420193
759 | Stillaguamish Board of Directors | 142,729 | 0.046517
760 | Stockbridge-Munsee Tribal Council | 880,541 | 0.286977
764 | Summit Lake Paiute Council |  | 0.000000
765 | Suquamish Tribal Council | 430,675 | 0.140361
766 | Susanville Indian Rancheria | 119,196 | 0.038847
768 | Swinomish Indian Tribal Community | 405,332 | 0.132102
778 | Taos Pueblo | 946,790 | 0.308568
779 | Tate Topa Tribal School (Four Winds) |  | 0.000000
786 | Te-Moak Tribe of Western Shoshone |  | 0.000000
789 | The Hopi Credit Association |  | 0.000000
794 | Three Affiliated Tribes | 1,898,917 | 0.618875
796 | Tiospa Zina Tribal School | 27,410 | 0.008933
800 | Tohono O'Odham Nation | 3,822,642 | 1.245836
801 | Toiyabe Indian Health Project, Inc | 562,031 | 0.183171
806 | Tonkawa Tribe of Oklahoma | 165,855 | 0.054054
809 | Torres Martinez Desert Cahuilla Indians | 209,793 | 0.068374
817 | Tulalip Tribes of Washington | 944,034 | 0.307670
818 | Tule River Indian Tribe | 438,087 | 0.142777
820 | Tunica-Biloxi Indian Tribe of Louisiana | 222,582 | 0.072542
824 | Turtle Mountain Band of Chippewa | 4,853,191 | 1.581702
825 | Turtle Mountain Community College | 1,505,440 | 0.490637
830 | Twin Buttes Day School |  | 0.000000
844 | United Crow Band Inc |  | 0.000000
846 | United Sioux Tribes | 770,909 | 0.251247
847 | United Tribes Technical College | 2,569,622 | 0.837465
852 | Upper Sioux Community | 57,954 | 0.018888
853 | Upper Skagit Tribal Council | 325,631 | 0.106126
854 | Ute Indian Tribe | 1,527,317 | 0.497767
855 | Ute Mountain Ute Tribe | 1,406,014 | 0.458233
864 | Walker River Paiute Tribal Council | 234,303 | 0.076362
865 | Wampanoag Tribe of Gay Head (Aquinnah) | 51,363 | 0.016740
870 | Washoe Tribe of Nevada and CA | 253,133 | 0.082498
875 | White Earth Band of Chippewa Indians | 2,865,521 | 0.933901
879 | White Shield School |  | 0.000000
881 | Wichita and Affiliated Tribes | 263,258 | 0.085798
884 | Winnebago Tribe of Nebraska | 1,247,085 | 0.406437
887 | Wounded Knee District School |  | 0.000000
889 | Wyandotte Tribe of Oklahoma | 353,732 | 0.115285
890 | Yakama Tribal Council | 4,697,535 | 1.530972
892 | Yakutat Tlingit Tribe | 20,064 | 0.006539
893 | Yankton Sioux Tribe | 491,671 | 0.160240
895 | Yavapai-Prescott Board of Directors | 97,449 | 0.031760
896 | Yerington Paiute Tribe | 227,029 | 0.073991
897 | Yomba Shoshone Tribe | 9,102 | 0.002966
898 | Ysleta Del Sur Pueblo | 650,759 | 0.212089
901 | Zia Pueblo | 41,574 | 0.013549
902 | Zuni Pueblo | 4,011,349 | 1.307337
908 | Bay Mills Community College | 691,642 | 0.225413
917 | Cglala Lakota Community College | 2,287,035 | 0.745367
920 | Cheyenne River Community College | 429,669 | 0.140033
930 | Crazy Horse School |  | 0.000000
935 | Dibe Yazhi Habitiin Olta, Inc. (Borrego, Pass) |  | 0.000000
940 | Dull Knife Memorial College | 512,635 | 0.167073
946 | Fort Berthold Community College |  | 0.000000
962 | Kickapoo Nation School |  | 0.000000
968 | Leupp Boarding School |  | 0.000000
983 | Northwest Indian College | 2,719,583 | 0.886338
998 | Salish Kootenai College | 3,253,199 | 1.060249
1026 | Tuba City Boarding School |  | 0.000000
1033 | Wingate Board of Education, Inc |  | 0.000000
1037 | Oglala Sioux Tribe Department of Public Safety |  | 0.000000
1039 | Great Lakes Indian Fish & Wildlife Commission | 154,199 | 0.050255
1040 | 1854 Authority |  | 0.000000
1042 | Oglala Sioux Parks & Recreation Authority |  | 0.000000
1043 | Navajo Area School Board Assoc., Inc |  | 0.000000
1044 | Tohatchi Special Edu. & Training Center | 157,293 | 0.051263
1046 | Bristol Bay Native Association |  | 0.000000
1047 | Columbia River Inter-Tribal Fish Commission | 1,529,679 | 0.498537
1050 | Covelo Indian Community Council |  | 0.000000
1051 | Dakota Plains Institute of Learning |  | 0.000000
1052 | Eeda Consortium of Tribes |  | 0.000000
1053 | Great Lakes Inter-Tribal Council | 1,426,757 | 0.464994
1055 | Inter-Tribal Council of Michigan, Inc | 2,517,216 | 0.820385
1058 | Local Indian Education Committee, Inc |  | 0.000000
1059 | Lummi Community College |  | 0.000000
1061 | Native American Fish & Wildlife Society |  | 0.000000
1064 | North Pacific Rim |  | 0.000000
1065 | Northwest Intertribal Court System | 64,235 | 0.020935
1066 | Northern Plains Inter-Tribal Court System |  | 0.000000
1070 | Sioux City Indian Education Committee |  | 0.000000
1071 | Skagit System Cooperative | 202,102 | 0.065867
1072 | Sky People Education Committee |  | 0.000000
1073 | Turning Point |  | 0.000000
| Total class member | 306,833,527 | 100.000000
*Total Federal Funds shown on Schedule of Federal Financial Assistance less BIA, IHS, construction and other adjustments to delegate non-federal funds.

[FR Doc. 00-30035 Filed 11-22-00; 8:45 am]

BILLING CODE 4310-02-P